DEPARTMENT OF THE INTERIOR

Bureau of Indian Affairs

[201D0102DR/DS5A300000/DR.5A311.IA000118]

Indian Child Welfare Act; Designated Tribal Agents for Service of Notice

AGENCY: Bureau of Indians Affairs, Interior.

ACTION: Notice.

SUMMARY: The regulations implementing the Indian Child Welfare Act provide that Indian Tribes may designate an agent other than the Tribal chairman for service of notice of proceedings under the Act. This notice includes the current list of designated Tribal agents for service of notice.

FOR FURTHER INFORMATION CONTACT: Bureau of Indian Affairs, Evangeline M. Campbell, Chief, Division of Human Services, 1849 C Street NW, Mail Stop 3641-MIB, Washington, DC 20240; Phone: (202) 513-7621.

SUPPLEMENTARY INFORMATION: The regulations implementing the Indian Child Welfare Act, 25 U.S.C. 1901 et seq., provide that Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Regional Director by registered or certified mail with return receipt requested or by personal delivery. See 25 CFR 23.11.

If the identity or location of the child's parents, the child's Indian custodian, or the Tribes in which the Indian child is a member or eligible for membership cannot be ascertained, but there is reason to know the child is an Indian child, notice of the child-custody proceeding must be sent to the appropriate Bureau of Indian Affairs Regional Director (see www.bia.gov). See 25 CFR 23.111.

No notices, except for final adoption decrees, are required to be sent to the BIA Central Office in Washington, DC.

This notice presents the names and addresses of current designated Tribal agents for service of notice, and includes each designated Tribal agent received by the Secretary of the Interior prior to the date of this publication. This notice lists designated Tribal agents by region and alphabetically by Tribe within each region, and is also available electronically at https://www.bia.gov/bia/ois/dhs/icwa.

ICWA Designated agents will be updated every four months on the website link to assist the public.

A. List of Designated Tribal Agents by Region

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by Region

1. Alaska Region

Alaska Regional Director, Bureau of Indian Affairs, Human Services, 3601 C Street, Suite 1100, Anchorage, Alaska 99503; Phone: (907) 271-1734.

Tribe | ICWA POC | Mailing address | Phone No. | Fax No. | Email address
Agdaagux Tribe of King Cove | Amanda McAdoo, ICWA Coordinator | Aleutian Pribilof Islands Association Inc., 1131 East International Airport Road, Anchorage, AK 99518-1408 | (907) 276-2700 | (907) 222-9735 | icwa@apiai.org.
Akiachak Native Community | ICWA Director | Association of Village Council Presidents, P.O. Box 219, Bethel, AK 99559 | (907) 543-8691 | (907) 543-7644 | icwa2@avcp.org.
Akiak Native Community | Olinka Jones, ICWA Director | P.O. Box 52127, Akiak, AK 99552 | (907) 765-7112 | (907) 765-7512 | akiakicwadept@gmail.com.
Alatna Village | Miriam A. Titus, Child Protection Program Manager | Tanana Chiefs Conference, 122 First Avenue, Suite 600, Fairbanks, AK 99701-4899 | (907) 452-8251 | (907) 459-3984 | miriam.titus@tananachiefs.org.
Algaaciq Native Village (St. Mary's) | ICWA Director | Association of Village Council Presidents, P.O. Box 219, Bethel, AK 99559 | (907) 543-8691 | (907) 543-7644 | icwa2@avcp.org.
Allakaket Village | Miriam A. Titus, Child Protection Program Manager | Tanana Chiefs Conference, 122 First Avenue, Suite 600, Fairbanks, AK 99701-4899 | (907) 452-8251 | (907) 459-3984 | miriam.titus@tananachiefs.org.
Alutiiq Tribe of Old Harbor | Conrad Peterson, Tribal President | P.O. Box 62, Old Harbor, AK 99643 | (907) 286-2215 | (907) 286-2350 | conradksl@gmail.com.
Angoon Community Association | Marlene Zuboff, ICWA Worker | P.O. Box 328, Angoon, AK 99820 | (907) 788-3411 | (907) 788-3412 | mzuboff.agntribe@gmail.com.
Anvik Village | Miriam A. Titus, Child Protection Program Manager | Tanana Chiefs Conference, 122 First Avenue, Suite 600, Fairbanks, AK 99701-4899 | (907) 452-8251 | (907) 459-3984 | miriam.titus@tananachiefs.org.
Arctic Village | Miriam A. Titus, Child Protection Program Manager | Tanana Chiefs Conference, 122 First Avenue, Suite 600, Fairbanks, AK 99701-4899 | (907) 452-8251 | (907) 459-3984 | miriam.titus@tananachiefs.org.
Asa'carsarmiut Tribe | Darlene Peterson and/or Jacqueline Landlord, Directors of Social Services & Education I/II | P.O. Box 32107, Mountain Village, AK 99632-0107 | (907) 591-2428 | (907) 591-2934 | atcicwa@gic.net.
Atqasuk Village | Joshua Stein, Director of Social Services | P.O. Box 1232, Atqasuk, AK 99723-1232 | (907) 852-9374 | (907) 852-2761 | joshua.stein@arcticslope.org.
Beaver Village | Miriam A. Titus, Child Protection Program Manager | Tanana Chiefs Conference, 122 First Avenue, Suite 600, Fairbanks, AK 99701-4899 | (907) 452-8251 | (907) 459-3984 | miriam.titus@tananachiefs.org.
Birch Creek Tribe | Miriam A. Titus, Child Protection Program Manager | Tanana Chiefs Conference, 122 First Avenue, Suite 600, Fairbanks, AK 99701-4899 | (907) 452-8251 | (907) 459-3984 | miriam.titus@tananachiefs.org.
Central Council of the Tlingit & Haida Indian Tribes | Barbara Dude, Family Services Administrator | 320 West Willoughby Avenue, Suite 300, Juneau, AK 99801-1772 | (907) 463-7169 | (907) 885-0032 | icwamail@ccthita-nsn.gov.
Chalkyitsik Village | Miriam A. Titus, Child Protection Program Manager | Tanana Chiefs Conference, 122 First Avenue, Suite 600, Fairbanks, AK 99701-4899 | (907) 452-8251 | (907) 459-3984 | miriam.titus@tananachiefs.org.
Cheesh-Na Tribe | Agnes Denny, Interim Tribal Administrator & ICWA Coordinator | HC01 Box 217, Gakona, AK 99586 | (907) 822-3503 | (907) 822-5179 | agnesadenny@gmail.com.
Chevak Native Village | ICWA Director | Association of Village Council Presidents P.O. Box 219, Bethel, AK 99559 | (907) 543-8691 | (907) 543-7644 | icwa2@avcp.org.
Chickaloon Native Village | Corrina Atkinson, Health, Education, & Social Services Director | P.O. Box 1105, Chickaloon, AK 99674-1105 | (907) 745-0749 | (907) 745-0709 | cvadmin@chickaloon-nsn.gov.
Chignik Bay Tribal Council | Crystal Nixon-Luckhurst, Children's Services Division Manager | Bristol Bay Native Association, P.O. Box 310, Dillingham, AK 99576 | (907) 842-4139 | (907) 842-4106 | cnixon@bbna.com.
Chignik Lake Village | Crystal Nixon-Luckhurst, Children's Services Division Manager | Bristol Bay Native Association, P.O. Box 310, Dillingham, AK 99576 | (907) 842-4139 | (907) 842-4106 | cnixon@bbna.com.
Chilkat Indian Village (Klukwan) | Carrie-Ann Durr, ICWA Caseworker | HC 60 Box 2207, Haines, AK 99827 | (907) 767-5505 | (907) 767-5408 | cdurr@chilkat-nsn.gov.
Chilkoot Indian Association (Haines) | Barbara Dude, Family Services Administrator | Central Council of the Tlingit and Haida Indian Tribes, 320 West Willoughby Avenue, Suite 300, Juneau, AK 99801-1772 | (907) 463-7169 | (907) 885-0032 | icwamail@ccthita-nsn.gov.
Chinik Eskimo Community (Golovin) | Heather Payenna, CFS Manager | Kawerak Inc. Children & Family Services P.O. Box 948, Nome, AK 99762 | (907) 443-4261 | (907) 443-4601 | hpayenna@kawerak.org.
Chuloonawick Native Village | Lois Isaac, Administrator | P.O. Box 248, Emmonak, AK 99581 | (907) 949-1345 | (907) 949-1346 | chuloonawick@gci.net.
Circle Native Community | Miriam A. Titus, Child Protection Program Manager | Tanana Chiefs Conference, 122 First Avenue, Suite 600, Fairbanks, AK 99701-4899 | (907) 452-8251 | (907) 459-3984 | miriam.titus@tananachiefs.org.
Craig Tribal Association | Barbara Dude, Family Services Administrator | Central Council of the Tlingit and Haida Indian Tribes, 320 West Willoughby Avenue Suite 300, Juneau, AK 99801-1772 | (907) 463-7169 | (907) 885-0032 | icwamail@ccthita-nsn.gov.
Curyung Tribal Council | Crystal Nixon-Luckhurst, Children's Services Division Manager | Bristol Bay Native Association, P.O. Box 310, Dillingham, AK 99576 | (907) 842-4139 | (907) 842-4106 | cnixon@bbna.com.
Douglas Indian Association | Andrea Cadiente Laiti, Tribal Administrator | 811 W. 12th Street, Juneau, AK 99801-1529 | (907) 364-2916 | (907) 364-2917 | alaiti-dia@gci.net.
Egegik Village | Crystal Nixon-Luckhurst, Children's Services Division Manager | Bristol Bay Native Association, P.O. Box 310, Dillingham, AK 99576 | (907) 842-4139 | (907) 842-4106 | cnixon@bbna.com.
Eklutna Native Village | Dawn Harris, ICWA Worker | 26339 Eklutna Village Road Chugiak, AK 99567 | (907) 688-6031 | (907) 688-6021 | nve.socialservice@eklutna-nsn.gov.
Emmonak Village | Charlene Striling, Community Family Service Specialist III | Association of Village Council Presidents, P.O. Box 149, Alakanuk, AK 99554-0149 | (907) 543-8691 | (907) 543-7644 | icwa2@avcp.org.
Evansville Village (aka Bettles Field) | Miriam A. Titus, Child Protection Manager | Tanana Chiefs Conference, 122 First Avenue, Suite 600, Fairbanks, AK 99701-4899 | (907) 452-8251 | (907) 459-3984 | miriam.titus@tananachiefs.org.
Galena Village (aka Louden Village) | Susie Sam, Indian Child Welfare Act Directior | P.O. Box 244, Galena, AK 99741-0244 | (907) 656-1711 | (907) 656-2491 | suziej.sam@loudentribe.com.
Gulkana Village Council | Rachel Stratton Morse, Family Services Coordinator | P.O. Box 254, Gakona, AK 99586-0254 | (907) 822-5363 | (907) 822-3976 | icwa@gulkanacouncil.org.
Healy Lake Village | Miriam A. Titus, Child Protection Manager | Tanana Chiefs Conference, 122 First Avenue, Suite 600, Fairbanks, AK 99701-4899 | (907) 452-8251 | (907) 459-3984 | miriam.titus@tananachiefs.org.
Holy Cross Tribe | Miriam A. Titus, Child Protection Program Manager | Tanana Chiefs Conference, 122 First Avenue, Suite 600, Fairbanks, AK 99701-4899 | (907) 452-8251 | (907) 459-3984 | miriam.titus@tananachiefs.org.
Hoonah Indian Association | Joyce Skaflestad, Human Development Department Manager/ICWA Caseworker | P.O. Box 602, Hoonah, AK 99829-0602 | (907) 945-3545 | (907) 945-3140 | jskaflestad@hiatribe.org.
Hughes Village | Miriam A. Titus, Child Protection Program Manager | Tanana Chiefs Conference, 122 First Avenue, Suite 600, Fairbanks, AK 99701-4899 | (907) 452-8251 | (907) 459-3984 | miriam.titus@tananachiefs.org.
Huslia Village | Miriam A. Titus, Child Protection Program Manager | Tanana Chiefs Conference, 122 First Avenue, Suite 600, Fairbanks, AK 99701-4899 | (907) 452-8251 | (907) 459-3984 | miriam.titus@tananachiefs.org.
Hydaburg Cooperative Association | Doreen Witwer, Tribal Administrator | P.O. Box 349, Hydaburg, AK 99922-0349 | (907) 285-3666 | (907) 285-3541 | HCATribe@gmail.com.
Igiugig Village | Alicia Zackar, Social Services Director | P.O. Box 4008, Igiugig, AK 99613-4008 | (907) 533-3211 | (907) 533-3217 | alicia.s.zackar@gmail.com.
Inupiat Community of the Arctic Slope | Marie H. Ahsoak, Social Services Director | P.O. Box 934, Barrow, AK 99723-0934 | (907) 852-5923 | (907) 852-5924 | social@inupiatgov.com.
Iqurmuit Traditional Council | ICWA Director, ICWA Director | Association of Village Council Presidents, P.O. Box 219, Bethel, AK 99559 | (907) 543-8691 | (907) 543-7644 | icwa2@avcp.org.
Ivanof Bay Tribe | Crystal Nixon-Luckhurst, Children's Services Division Manager | Bristol Bay Native Association, P.O. Box 310, Dillingham, AK 99576 | (907) 842-4139 | (907) 842-4106 | cnixon@bbna.com.
Kaguyak Village | Alyssa Brenteson, Tribal Manager | P.O. Box 5078, Akhiok, AK 99615-5078 | (907) 836-2231 |  | kaguyak.tribal.council@gmail.com.
Kaktovik Village (aka Barter Island) | Joshua Stein, Director of Social Services | Arctic Slope Native Association, P.O. Box 1232, Barrow, AK 99723-1232 | (907) 852-9374 | (907) 852-2761 | joshua.stein@arcticslope.org.
Kasigluk Traditional Elders Council | Lena Keene, ICWA Worker | P.O. Box 19, Kasigluk, AK 99609-0019 | (907) 477-6418 | (907) 477-6412 | kasigluktribalicwa@gmail.com.
Kenaitze Indian Tribe | Maria Guerra, Family and Social Services Director | P.O. Box 988, Kenai, AK 99611-0988 | (907) 335-7628 | (907) 202-8359 | MGuerra@kenaitze.org.
Ketchikan Indian Corporation | Lynn Quan, Social Services Director | 201 Deermount Street, Ketchikan, AK 99901-6649 | (907) 228-9327 | (800) 378-0469 | lquan@kictribe.org.
King Island Native Community | Heather Payenna, CFS Manager | Kawerak Inc. Children & Family Services, P.O. Box 948, Nome, AK 99762 | (907) 443-4261 | (907) 443-4601 | hpayenna@kawerak.org.
King Salmon Tribe | Crystal Nixon-Luckhurst, Children's Services Division Manager | Bristol Bay Native Association, P.O. Box 310, Dillingham, AK 99576 | (907) 842-4139 | (907) 842-4106 | cnixon@bbna.com.
Klawock Cooperative Association | Barbara Dude, Family Services Administrator | Central Council of the Tlingit and Haida Indian Tribes, 320 West Willoughby Avenue, Suite 300, Juneau, AK 99801-1772 | (907) 463-7163 | (907) 885-0032 | icwamail@ccthita-nsn.gov.
Knik Tribe | Geraldine Nicoli-Ayonayon, ICWA Manager | P.O. Box 871565, Wasilla, AK 99687-1565 | (907) 373-7991 | (907) 373-2153 | gnayonayon@kniktribe.org.
Kokhanok Village | Lysa Lacson, Administratro | P.O. Box 1007, Kokhanok, AK 99606 | (907) 282-2202 | (907) 282-2221 | kokhanok.vca@gmail.com.
Koyukuk Native Village | Miriam A. Titus, Child Protection Program Manager | Tanana Chiefs Conference, 122 First Avenue, Suite 600, Fairbanks, AK 99701-4899 | (907) 452-8251 | (907) 459-3984 | miriam.titus@tananachiefs.org.
Levelock Village | Crystal Nixon-Luckhurst, Children's Services Division Manager | Bristol Bay Native Association, P.O. Box 310, Dillingham, AK 99576 | (907) 842-4139 | (907) 842-4106 | cnixon@bbna.org.
Lime Village | ICWA Director, ICWA Director | Association of Village Council Presidents, P.O. Box 219, Bethel, AK 99559 | (907) 543-8691 | (907) 543-7644 | icwa2@avcp.org.
Manley Hot Springs Village | Miriam A. Titus, Child Protection Program Manager | Tanana Chiefs Conference, 122 First Avenue, Suite 600, Fairbanks, AK 99701-4899 | (907) 452-8251 | (907) 459-3984 | miriam.titus@tananachiefs.org.
Manokotak Village | Crystal Nixon-Luckhurst, Children's Services Division Manager | Bristol Bay Native Association, P.O. Box 310, Dillingham, AK 99576 | (907) 842-4139 | (907) 842-4106 | cnixon@bbna.com.
McGrath Native Village | Miriam A. Titus, Child Protection Program Manager | Tanana Chiefs Conference, 122 First Avenue, Suite 600, Fairbanks, AK 99701-4899 | (907) 452-8251 | (907) 459-3984 | miriam.titus@tananachiefs.org.
Mentasta Traditional Council | Anita Andrews, Tribal Administrator | P.O. Box 6019, Mentasta Lake, AK 99780-6019 | (907) 291-2319 | (907) 291-2305 | 907mlv99780ta@gmail.com.
Naknek Native Village | Judy Jo Matson, ICWA Worker | P.O. Box 210, Naknek, AK 99633-0210 | (907) 246-4210 | (907) 246-3563 | nnvc.judyjo@gmail.com.
Native Village of Afognak | Denise Malutin, ICWA Worker | 115 Mill Bay Road, Kodiak, AK 99615-6332 | (907) 486-6357 | (907) 486-6529 | denise@afognak.org.
Native Village of Akhiok | Cassie Keplinger, Family Services Coordinator | Kodiak Area Native Association, 3449 Rezanof Drive, East Kodiak, AK 99615-6952 | (907) 486-9882 | (907) 486-3498 | cassie.keplinger@kodiakhealthcare.org.
Native Village of Akutan | Amanda McAdoo, ICWA Coordinator | Aleutian Pribilof Islands Association Inc., 1131 E. International Airport Road, Anchorage, AK 99518-1408 | (907) 276-2700 | (907) 222-9735 | icwa@apiai.org.
Native Village of Aleknagik | Crystal Nixon-Luckhurst, Children's Services Division Manager | Bristol Bay Native Association, P.O. Box 310, Dillingham, AK 99576 | (907) 842-4139 | (907) 842-4106 | cnixon@bbna.com.
Native Village of Ambler | Jackie Hill, Director | Maniilaq Association Family Services, P.O. Box 256, Kotzebue, AK 99752-0256 | (907) 442-7879 | (907) 442-7885 | jackie.hill@maniilaq.org.
Native Village of Atka | Amanda McAdoo, ICWA Coordinator | Aleutian Pribilof Islands Association Inc., 1131 E. International Airport Road, Anchorage, AK 99518-1408 | (907) 276-2700 | (907) 222-9735 | icwa@apiai.org.
Native Village of Barrow Inupiat Traditional Government | Asisaun Toovak, Social Services Director | P.O. Box 1130, Barrow, AK 99723 | (907) 852-4411 | (907) 852-4413 | asisaun.toovak@nvbarrow.net.
Native Village of Belkofski | Amanda McAdoo, ICWA Coordinator | Aleutian Pribilof Islands Association Inc., 1131 E. International Airport Road, Anchorage, AK 99518-1408 | (907) 276-2700 | (907) 222-9735 | icwa@apiai.org.
Native Village of Brevig Mission | Heather Payenna, CFS Manager | Kawerak Inc. Children & Family Services, P.O. Box 948, Nome, AK 99762 | (907) 443-4261 | (907) 443-4601 | hpayenna@kawerak.org.
Native Village of Buckland | Courtney Hadley, ICWA Coordinator | P.O. Box 67, Buckland, AK 99727-0067 | (907) 494-2169 | (907) 494-2192 | icwa@nunachiak.org.
Native Village of Cantwell | Arleen Lenard, ICWA Advocate | P.O. Box H, Copper Center, AK 99573-0508 | (907) 822-5241 | (888) 959-2389 | alenard@crnative.org.
Native Village of Chenega (aka Chanega) | Norma J. Selanoff, ICWA Representative | P.O. Box 8079, Chenega Bay, AK 99574-8079 | (907) 573-2086 |  | taaira@nativevillageofchenega.com.
Native Village of Chignik Lagoon | Crystal Nixon-Luckhurst, Children's Services Division Manager | Bristol Bay Native Association, P.O. Box 310, Dillingham, AK 99576 | (907) 842-4139 | (907) 842-4106 | cnixon@bbna.com.
Native Village of Chitina | Gyna Gordon, ICWA Advocate | P.O. Box 31, Chitina, AK 99566 | (907) 823-2215 | (907) 823-2285 | ggordonCTIVCicwa@outlook.com.
Native Village of Chuathbaluk (Russian Mission, Kuskokwim) | ICWA Director | Association of Village Council Presidents, P.O. Box 219, Bethel, AK 99559 | (907) 543-8691 | (907) 543-7644 | icwa2@avcp.org.
Native Village of Council | Heather Payenna, CFS Manager | Kawerak Inc. Children & Family Services, P.O. Box 948, Nome, AK 99762 | (907) 443-4261 | (907) 443-4601 | hpayenna@kawerak.org.
Native Village of Deering | Jackie Hill, Director | Maniilaq Association Family Services, P.O. Box 256, Kotzebue, AK 99752-0256 | (907) 442-7879 | (907) 442-7885 | jackie.hill@maniilaq.org.
Native Village of Diomede (aka Inalik) | Heather Payenna, CFS Manager | Kawerak Inc. Children & Family Services, P.O. Box 948, Nome, AK 99762 | (907) 443-4261 | (907) 443-4601 | hpayenna@kawerak.org.
Native Village of Eagle | Miriam A. Titus, Child Protection Program Manager | Tanana Chiefs Conference, 122 First Avenue, Suite 600, Fairbanks, AK 99701-4899 | (907) 452-8251 | (907) 459-3984 | miriam.titus@tananachiefs.org.
Native Village of Eek | ICWA Director, ICWA Director | Association of Village Council Presidents, P.O. Box 219, Bethel, AK 99559 | (907) 543-8691 | (907) 543-7644 | icwa2@avcp.org.
Native Village of Ekuk | Crystal Nixon-Luckhurst, Children's Services Division Manager | Bristol Bay Native Association, P.O. Box 310, Dillingham, AK 99576 | (907) 842-4139 | (907) 842-4106 | cnixon@bbna.com.
Native Village of Ekwok | Crystal Nixon-Luckhurst, Children's Services Division Manager | Bristol Bay Native Association, P.O. Box 310, Dillingham, AK 99576 | (907) 842-4139 | (907) 842-4106 | cnixon@bbna.com.
Native Village of Elim | Heather Payenna, CFS Manager | Kawerak Inc. Children & Family Services, P.O. Box 948, Nome, AK 99762 | (907) 443-4261 | (907) 443-4601 | hpayenna@kawerak.org.
Native Village of Eyak (Cordova) | Cheryl Eleshansky, ICWA Coordinator | P.O. Box 1388, Cordova, AK 99574-1388 | (907) 424-2238 | (907) 424-7809 | icwa@eyak-nsn.gov.
Native Village of False Pass | Amanda McAdoo, ICWA Coordinator | Aleutian Pribilof Islands Association Inc., 1131 E. International Airport Road, Anchorage, AK 99518-1408 | (907) 276-2700 | (907) 222-9735 | icwa@apiai.org.
Native Village of Fort Yukon | Miriam A. Titus, Child Protection Program Manager | Tanana Chiefs Conference, 122 First Avenue, Suite 600, Fairbanks, AK 99701-4899 | (907) 452-8251 | (907) 459-3984 | miriam.titus@tananachiefs.org.
Native Village of Gakona | Lisa Nicolai, ICWA Worker | P.O. Box 102, Gakona, AK 99586-0102 | (907) 822-5777 | (907) 822-5997 | gakonaprojects@gmail.com.
Native Village of Gambell | Heather Payenna, CFS Manager | Kawerak Inc. Children & Family Services, P.O. Box 948, Nome, AK 99762 | (907) 443-4261 | (907) 443-4601 | hpayenna@kawerak.org.
Native Village of Georgetown | Tribal Administrator, Tribal Administrator | 5313 Arctic Blvd, Suite 104, Anchorage, AK 99518-1111 | (907) 274-2195 | (907) 274-2196 | N/A
Native Village of Goodnews Bay | ICWA Director, ICWA Director | Association of Village Council Presidents, P.O. Box 219, Bethel, AK 99559 | (907) 543-8691 | (907) 543-7644 | icwa2@avcp.org.
Native Village of Hamilton | ICWA Director | Association of Village Council Presidents, P.O. Box 219, Bethel, AK 99559 | (907) 543-8691 | (907) 543-7644 | icwa2@avcp.org.
Native Village of Hooper Bay | ICWA Director | Association of Village Council Presidents, P.O. Box 219, Bethel, AK 99559 | (907) 543-8691 | (907) 543-7644 | icwa2@avcp.org.
Native Village of Kanatak | Crystal Nixon-Luckhurst, Children's Services Division Manager | Bristol Bay Native Association, P.O. Box 310, Dillingham, AK 99576 | (907) 842-4139 | (907) 842-4106 | cnixon@bbna.com.
Native Village of Karluk | Kristeen Reft, Tribal Clerk | P.O. Box 876822, Karluk, AK 99608 | (907) 241-2238 | (907) 241-2213 | karlukiracouncil@aol.com.
Native Village of Kiana | Christina Westlake, ICWA Coordinator | P.O. Box 69, Kiana, AK 99749-0069 | (907) 475-2226 | (907) 475-2180 | icwa@katyaaq.org.
Native Village of Kipnuk | ICWA Director | Association of Village Council Presidents, P.O. Box 219, Bethel, AK 99559 | (907) 543-8691 | (907) 543-7644 | icwa2@avcp.org.
Native Village of Kivalina | Jackie Hill, Director | Maniilaq Association Family Services, P.O. Box 256, Kotzebue, AK 99752-0256 | (907) 442-7879 | (907) 442-7885 | jackie.hill@maniilaq.org.
Native Village of Kluti-Kaah (aka Copper Center) | Arleen Lenard, ICWA Advocate | P.O. Box H, Copper Center, AK 99573-0508 | (907) 822-5241 | (888) 959-2389 | alenard@crnative.org.
Native Village of Kobuk | Jackie Hill, Director | Maniilaq Association Family Services, P.O. Box 256, Kotzebue, AK 99752-0256 | (907) 442-7879 | (907) 442-7885 | jackie.hill@maniilaq.org.
Native Village of Kongiganak | Joseph Mute, Tribal Administrator | P.O. Box 5069, Kongiganak, AK 99545-5069 | (907) 557-5226 | (907) 557-5224 | Kong.tribe@gmail.com.
Native Village of Kotzebue | Bibianna Scott, Tribal Family Services Director | P.O. Box 296, Kotzebue, AK 99752-0296 | (907) 442-3467 | (907) 442-4013 | bibianna.scott@qire.org.
Native Village of Koyuk | Heather Payenna, CFS Manager | Kawerak Inc. Children & Family Services, P.O. Box 948, Nome, AK 99762 | (907) 443-4261 | (907) 443-4601 | hpayenna@kawerak.org.
Native Village of Kwigillingok | Andrew Beaver, ICWA Program Director | P.O. Box 90, Kwigillingok, AK 99622-0090 | (907) 588-8114 | (907) 588-8429 | abeaver@kwigtribe.org.
Native Village of Kwinhagak (aka Quinhagak) | ICWA Director, ICWA Director | Association of Village Council Presidents, P.O. Box 219, Bethel, AK 99559 | (907) 543-8691 | (907) 543-7644 | icwa2@avcp.org.
Native Village of Larsen Bay | Cassie Keplinger, ICWA Coordinator | Kodiak Area Native Association 3449 Rezanof Drive, East Kodiak, AK 99615-6952 | (907) 486-9882 | (907) 486-3498 | cassie.keplinger@kodiakhealthcare.org.
Native Village of Marshall (aka Fortuna Ledge) | ICWA Director, ICWA Director | Association of Village Council Presidents, P.O. Box 219, Bethel, AK 99559 | (907) 543-8691 | (907) 543-7644 | icwa2@avcp.org.
Native Village of Mary's Igloo | Heather Payenna, CFS Manager | Kawerak Inc. Children & Family Services, P.O. Box 948, Nome, AK 99762 | (907) 443-4261 | (907) 443-4601 | hpayenna@kawerak.org.
Native Village of Mekoryuk | Melanie Shavings, ICWA Worker | P.O. Box 66, Mekoryuk, AK 99630 | (907) 827-8827 | (907) 827-8133 | melanie.s@mekoryuktc.org.
Native Village of Minto | Miriam A. Titus, Child Protection Program Manager | Tanana Chiefs Conference, 122 First Avenue, Suite 600, Fairbanks, AK 99701-4899 | (907) 452-8251 | N/A | miriam.titus@tananachiefs.org.
Native Village of Nanwalek (aka English Bay) | Katrina Berestoff, ICWA Coordinator | P.O. Box 8028, Nanwalek, AK 99603-8028 | (907) 281-2274 | (907) 281-2252 | nanwalekicwa@gmail.com.
Native Village of Napaimute | ICWA Director, ICWA Director | Association of Village Council Presidents, P.O. Box 219, Bethel, AK 99559 | (907) 543-8691 | (907) 543-7644 | icwa2@avcp.org.
Native Village of Napakiak | ICWA Director, ICWA Director | Association of Village Council Presidents, P.O. Box 219, Bethel, AK 99559 | (907) 543-8691 | (907) 543-7644 | icwa2@avcp.org.
Native Village of Napaskiak | ICWA Director | Association of Village Council Presidents, P.O. Box 219, Bethel, AK 99559 | (907) 543-8691 | (907) 543-7644 | icwa2@avcp.org.
Native Village of Nelson Lagoon | Amanda McAdoo, ICWA Coordinator | Aleutian Pribilof Islands Association Inc., 1131 E. International Airport Road, Anchorage, AK 99518-1408 | (907) 276-2700 | (907) 222-9735 | icwa@apiai.org.
Native Village of Nightmute | ICWA Director | Association of Village Council Presidents, P.O. Box 219, Bethel, AK 99559 | (907) 543-8691 | (907) 543-7644 | icwa2@avcp.org.
Native Village of Nikolski | Amanda McAdoo, ICWA Coordinator | Aleutian Pribilof Islands Association Inc., 1131 E. International Airport Road, Anchorage, AK 99518-1408 | (907) 276-2700 | (907) 222-9735 | icwa@apiai.org.
Native Village of Noatak | Edna R. Bailey, ICWA Coordinator | P.O. Box 89, Noatak, AK 99761 | (907) 485-2030 | (907) 485-2137 | icwa@nautaaq.org.
Native Village of Nuiqsut (aka Nooiksut) | Joshua Stein, Director of Social Services | Arctic Slope Native Association, P.O. Box 1232, Barrow, AK 99723-1232 | (907) 852-9374 | (907) 852-2761 | Joshua.stein@arcticslope.org.
Native Village of Nunam Iqua | Charlene Striling, Community Family Service Specialist III | Association of Village Council Presidents, P.O. Box 219, Bethel, AK 99559 | (907) 238-3730 | (907) 238-3705 | icwa2@avcp.org.
Native Village of Nunapitchuk | Stephanie Alexie-Stewart, ICWA | P.O. Box 104, Nunapitchuk, AK 99641-0104 | (907) 527-5731 | (907) 527-5740 | nunap.icwa@yuik.org.
Native Village of Ouzinkie | Cassie Keplinger, Family Services Coordinator | Kodiak Area Native Association 3449 Rezanof Drive, East Kodiak, AK 99615-6952 | (907) 486-9882 | (907) 486-3498 | cassie.keplinger@kodiakhealthcare.org.
Native Village of Paimiut | Colleen Timmer, Tribal Administrator | P.O. Box 240084, Anchorage, AK 99524-0084 | (907) 561-0304 | (907) 561-0305 | paimiut@nvptc.org.
Native Village of Perryville | Crystal Nixon-Luckhurst, Children's Services Division Manager | Bristol Bay Native Association, P.O. Box 310, Dillingham, AK 99576 | (907) 842-4139 | (907) 842-4106 | cnixon@bbna.com.
Native Village of Pilot Point | Crystal Nixon-Luckhurst, Children's Services Division Manager | Bristol Bay Native Association, P.O. Box 310, Dillingham, AK 99576 | (907) 842-4139 | (907) 842-4106 | cnixon@bbna.com.
Native Village of Pitka's Point | ICWA Director, ICWA Director | Association of Village Council Presidents, P.O. Box 219, Bethel, AK 99559 | (907) 543-8691 | (907) 543-7644 | icwa2@avcp.org.
Native Village of Point Hope | Mabel Oktollik, Family/ICWA Case Worker | P.O. Box 109, Point Hope, AK 99766-0109 | (907) 368-3122 | (907) 368-2332 | family.caseworker@tikigaq.com.
Native Village of Point Lay | Marie Ahsoak, Social Services Director | Inupiat Community of the Arctic Slope, P.O. Box 934, Barrow, AK 99723-0934 | (907) 852-5923 | (907) 852-5924 | social@inupiatgov.com.
Native Village of Port Graham | Patrick Norman, Chief | ICWA Program, P.O. Box 5510, Port Graham, AK 99603-5510 | (907) 284-2227 | (907) 284-2222 | vivian@portgraham.org.
Native Village of Port Heiden | Amber Christensen-Fox, Tribal Children Service Worker | 2200 James Street, Port Heiden, AK 99549 | (907) 837-2296 | (907) 837-2297 | amber@portheidenalaska.com.
Native Village of Port Lions | Yvonne Mullen, Tribal Administrator | P.O. Box 69, Port Lions, AK 99550-0069 | (907) 454-2234 | (907) 454-2434 | familyservices@portlionstribe.org.
Native Village of Ruby | Miriam A. Titus, Child Protection Program Manager | Tanana Chiefs Conference, 122 First Avenue, Suite 600, Fairbanks, AK 99701-4899 | (907) 452-8251 | (907) 459-3984 | miriam.titus@tananachiefs.org.
Native Village of Saint Michael | Heather Payenna, CFS Manager | Kawerak Inc., Children & Family Services, P.O. Box 948, Nome, AK 99762 | (907) 443-4261 | (907) 443-4601 | hpayenna@kawerak.org.
Native Village of Savoonga | Heather Payenna, CFS Manager | Kawerak Inc. Children & Family Services, P.O. Box 948, Nome, AK 99762 | (907) 443-4261 | (907) 443-4601 | hpayenna@kawerak.org.
Native Village of Scammon Bay | ICWA Director, ICWA Director | Association of Village Council Presidents, P.O. Box 219, Bethel, AK 99559 | (907) 543-8691 | (907) 543-7644 | icwa2@avcp.org.
Native Village of Selawik | Jackie Hill, Director | Maniilaq Association Family Services, P.O. Box 256, Kotzebue, AK 99752-0256 | (907) 442-7879 | (907) 442-7885 | jackie.hill@maniilaq.org.
Native Village of Shaktoolik | Heather Payenna, CFS Manager | Kawerak Inc., Children & Family Services, P.O. Box 948, Nome, AK 99762 | (907) 443-4261 | (907) 443-4601 | hpayenna@kawerak.org.
Native Village of Shishmaref | Heather Payenna, CFS Manager | Kawerak Inc. Children & Family Services, P.O. Box 948, Nome, AK 99762 | (907) 443-4261 | (907) 443-4601 | hpayenna@kawerak.org.
Native Village of Shungnak | Jackie Hill, Director | Maniilaq Association Family Services, P.O. Box 256, Kotzebue, AK 99752-0256 | (907) 442-7879 | (907) 442-7885 | jackie.hill@maniilaq.org.
Native Village of Stevens | Miriam A. Titus, Child Protection Program Manager | Tanana Chiefs Conference, 122 First Avenue, Suite 600, Fairbanks, AK 99701-4899 | (907) 452-8251 | (907) 459-3984 | miriam.titus@tananachiefs.org.
Native Village of Tanacross | Miriam A. Titus, Child Protection Program Manager | Tanana Chiefs Conference, 122 First Avenue, Suite 600, Fairbanks, AK 99701-4899 | (907) 452-8251 | (907) 459-3984 | miriam.titus@tananachiefs.org.
Native Village of Tanana | Miriam A. Titus, Child Protection Program Manager | Tanana Chiefs Conference, 122 First Avenue, Suite 600, Fairbanks, AK 99701-4899 | (907) 452-8251 | (907) 459-3984 | miriam.titus@tananachiefs.org.
Native Village of Tatitlek | Rami Paulsen, Tribal Administrator | P.O. Box 171, Tatitlek, AK 99677 | (907) 325-2311 | (907) 325-2289 | rpaulsen@tatitlek.com.
Native Village of Tazlina | Donna Renard, ICWA Worker | P.O. Box 87, Glennallen, AK 99588-0087 | (907) 822-4375 | (907) 822-5865 | asst.tazlina@cvinternet.net.
Native Village of Teller | Heather Payenna, CFS Manager | Kawerak Inc. Children & Family Services, P.O. Box 948, Nome, AK 99762 | (907) 443-4261 | (907) 443-4601 | hpayenna@kawerak.org.
Native Village of Tetlin | Miriam A. Titus, Child Protection Program Manager | Tanana Chiefs Conference, 122 First Avenue, Suite 600, Fairbanks, AK 99701-4899 | (907) 452-8251 | (907) 459-3984 | miriam.titus@tananachiefs.org.
Native Village of Tuntutuliak | ICWA Director, ICWA Director | Association of Village Council Presidents, P.O. Box 219, Bethel, AK 99559 | (907) 543-8691 | (907) 543-7644 | icwa2@avcp.org.
Native Village of Tununak | ICWA Director, ICWA Director | Association of Village Council Presidents, P.O. Box 219, Bethel, AK 99559 | (907) 543-8691 | (907) 543-7644 | icwa2@avcp.org.
Native Village of Tyonek | Arthur Standifer, Tribal Child Welfare Worker | P.O. Box 82009, Tyonek, AK 99682-0009 | (907) 583-2209 | (907) 583-2219 | tyonekicwa@gmail.com.
Native Village of Unalakleet | Christy Schuneman, ICWA Caseworker | P.O. Box 3575, Unalakleet, AK 99684 | (907) 624-3622 | (907) 624-5104 | tfc.unk@unkira.org.
Native Village of Unga | Amanda McAdoo, ICWA Coordinator | Aleutian Pribilof Islands Association Inc., 1131 E. International Airport Road, Anchorage, AK 99518-1408 | (907) 276-2700 | (907) 222-9735 | icwa@apiai.org.
Native Village of Venetie Tribal Government (Arctic Village and Village of Venetie) | Miriam A. Titus, Child Protection Program | Tanana Chiefs Conference, 122 First Avenue, Suite 600, Fairbanks, AK 99701-4899 | (907) 452-8251 | (907) 459-3984 | miriam.titus@tananachiefs.org.
Native Village of Wales | Heather Payenna, CFS Manager | Kawerak Inc. Children & Family Services, P.O. Box 948, Nome, AK 99762 | (907) 443-4261 | (907) 443-4601 | hpayenna@kawerak.org.
Native Village of White Mountain | Heather Payenna, CFS Manager | Kawerak Inc. Children & Family Services, P.O. Box 948, Nome, AK 99762 | (907) 443-4261 | (907) 443-4601 | hpayenna@kawerak.org.
Nenana Native Association | Miriam A. Titus, Child Protection Program Manager | Tanana Chiefs Conference, 122 First Avenue, Suite 600, Fairbanks, AK 99701-4899 | (907) 452-8251 | (907) 459-3984 | miriam.titus@tananachiefs.org.
New Koliganek Village Council | Crystal Nixon-Luckhurst, Children's Services Division Manager | Bristol Bay Native Association, P.O. Box 310, Dillingham, AK 99576 | (907) 842-4139 | (907) 842-4106 | cnixon@bbna.com.
New Stuyahok Village | Crystal Nixon-Luckhurst, Children's Services Division Manager | Bristol Bay Native Association, P.O. Box 310, Dillingham, AK 99576 | (907) 842-4139 | (907) 842-4106 | cnixon@bbna.com.
Newhalen Village | Maxine Wassillie, ICWA Worker | P.O. Box 207, Newhalen, AK 99606-0207 | (907) 571-1410 | (907) 571-1537 | maxinewassillie@newhalentribal.com.
Newtok Village | Andrew John, Tribal Administrator | P.O. Box 5596, Newtok, AK 99559-5596 | (907) 237-2202 | (907) 237-2210 | wwt10nnc@gmail.com.
Nikolai Village | Miriam A. Titus, Child Protection Program Manager | Tanana Chiefs Conference, 122 First Avenue, Suite 600, Fairbanks, AK 99701-4899 | (907) 452-8251 | (907) 459-3984 | miriam.titus@tananachiefs.org.
Ninilchik Village | Bettyann Steciw, ICWA Specialist | P.O. Box 39444, Ninilchik, AK 99639-0444 | (907) 567-3313 | (907) 567-3354 | bettyann@ninilchiktribe-nsn.gov.
Nome Eskimo Community | Lola Stepetin, Family Services Director | 561 E. 36th Avenue, Suite 102, Anchorage, AK 99503-4137 | (907) 339-8623 | (907) 222-2996 | lola.stepetin@necalaska.org.
Nondalton Village | President | P.O. Box 49, Nondalton, AK 99640 | (907) 294-2257 | (907) 294-2271 | N/A
Noorvik Native Community | Jackie Hill, Director | Maniilaq Association Family Services, P.O. Box 256, Kotzebue, AK 99752-0256 | (907) 442-7879 | (907) 442-7885 | jackie.hill@maniilaq.org.
Northway Village | Tasha Demit, ICWA Worker | P.O. Box 516, Northway, AK 99764 | (907) 778-2311 | (907) 778-2220 | icwa@aptalaska.net.
Nulato Village | Sharon Agnes, Director of Human Services | P.O. Box 65049, Nulato, AK 99765-0049 | (907) 898-2339 | (907) 898-2207 | Sharon.agnes62@outlook.com.
Nunakauyarmiut Tribe | ICWA Director, ICWA Director | Association of Village Council Presidents, P.O. Box 219, Bethel, AK 99559 | (907) 543-8691 | (907) 543-7644 | icwa2@avcp.org.
Organized Village of Grayling (aka Holikachuk) | Miriam A. Titus, Child Protection Program Manager | Tanana Chiefs Conference, 122 First Avenue, Suite 600, Fairbanks, AK 99701-4899 | (907) 452-8251 | (907) 459-3984 | miriam.titus@tananachiefs.org.
Organized Village of Kake | Nathalie Austin, Social Services Director | P.O. Box 316, Kake, AK 99830-0316 | (907) 785-6471 | (907) 785-4902 | icwa@kake-nsn.gov.
Organized Village of Kasaan | Barbara Dude, Family Services Administrator | Central Council of the Tlingit and Haida Indian Tribes 320 W. Willoughby Ave., Suite 300, Juneau, AK 99801-1772 | (907) 463-7169 | (907) 885-0032 | icwamail@ccthita-nsn.gov.
Organized Village of Kwethluk | Richard Berezkin, ICWA Coordinator | P.O. Box 210, Kwethluk, AK 99621-0210 | (907) 757-6714 | (907) 757-6328 | ovkicwa@gmail.com.
Organized Village of Saxman | Barbara Dude, Family Services Administrator | Central Council of the Tlingit and Haida Indian Tribes 320 W. Willoughby Ave., Suite 300, Juneau, AK 99801-1772 | (907) 463-7169 | (907) 885-0032 | icwamail@ccthita-nsn.gov.
Orutsararmiut Traditional Native Council | Sophie Jenkins, Social Services Director | P.O. Box 927, Bethel, AK 9559-0927 | (907) 543-2608 | (907) 543-2639 | sjenkins@nativecouncil.org.
Oscarville Traditional Village | ICWA Director, ICWA Director | Association of Village Council Presidents, P.O. Box 219, Bethel, AK 99559 | (907) 543-8691 | (907) 543-7644 | icwa2@avcp.org.
Pauloff Harbor Village | Amanda McAdoo, ICWA Coordinator | Aleutian Pribilof Islands Association Inc., 1131 E. International Airport Road, Anchorage, AK 99518-1408 | (907) 276-2700 | (907) 222-9735 | icwa@apiai.org.
Pedro Bay Village | Verna Kolyaha, Program Services | P.O. Box 47020, Pedro Bay, AK 99647-0020 | (907) 850-2341 | (907) 850-2232 | vjkolyaha@pedrobay.com.
Petersburg Indian Association | Tribal Administrator, Tribal Administrator | P.O. Box 1418, Petersburg, AK 99833-1418 | (907) 772-3636 | (907) 772-3637 | icwa@piatribal.org.
Pilot Station Traditional Village | ICWA Director, ICWA Director | Association of Village Council Presidents, P.O. Box 219, Bethel, AK 99559 | (907) 543-8691 | (907) 543-7644 | icwa2@avcp.org.
Platinum Traditional Village | ICWA Director | Association of Village Council Presidents, P.O. Box 219, Bethel, AK 99559 | (907) 543-7461 | (907) 543-7644 | icwa2@avcp.org.
Portage Creek Village (aka Ohgsenakale) | Crystal Nixon-Luckhurst, Children's Services Division Manager | Bristol Bay Native Association, P.O. Box 310, Dillingham, AK 99576 | (907) 842-4139 | (907) 842-4106 | cnixon@bbna.com.
Qagan Tayagungin Tribe of Sand Point Village | Amanda McAdoo, ICWA Coordinator | Aleutian Pribilof Islands Association Inc., 1131 E. International Airport Road, Anchorage, AK 99518-1408 | (907) 276-2700 | (907) 222-9735 | icwa@apiai.org.
Qawalangin Tribe of Unalaska | Amanda McAdoo, ICWA Coordinator | Aleutian Pribilof Islands Association Inc., 1131 E. International Airport Road, Anchorage, AK 99518-1408 | (907) 276-2700 | (907) 222-9735 | icwa@apiai.org.
Rampart Village | Miriam A. Titus, Child Protection Program Manager | Tanana Chiefs Conference, 122 First Avenue, Suite 600, Fairbanks, AK 99701-4899 | (907) 452-8251 | (907) 459-3984 | miriam.titus@tananachiefs.org.
Saint George Island | Amanda McAdoo, ICWA Coordinator | Aleutian Pribilof Islands Association Inc., 1131 E. International Airport Road, Anchorage, AK 99518-1408 | (907) 276-2700 | (907) 222-9735 | icwa@apiai.org.
Saint Paul Island | Charlene Naulty, Director | P.O. Box 86, St. Paul Island, AK 99660 | (907) 546-3200 | (907) 546-3254 | icwa@aleut.com.
Salamatof Tribe | Maria Guerra, Family and Social Services Director | Kenaitze Indian Tribe, P.O. Box 988, Kenai, AK 99611-0988 | (907) 335-7613 | (907) 202-8359 | dstevens@kenaitze.org.
Seldovia Village Tribe | Shannon Custer, ICWA Representative | P.O. Drawer L, Seldovia, AK 99663 | (907) 234-7898 | (907) 234-7865 | scuster@svt.org.
Shageluk Native Village | Miriam A. Titus, Child Protection Program Manager | Tanana Chiefs Conference, 122 First Avenue, Suite 600, Fairbanks, AK 99701-4899 | (907) 452-8251 | (907) 459-3984 | miriam.titus@tananachiefs.org.
Sitka Tribe of Alaska | Melonie Boord, Social Services Director | 456 Katlian Street, Sitka, AK 99835-7505 | (907) 747-7221 | (907) 747-7643 | melonie.boord@sitkatribe-nsn.gov.
Skagway Village | Melissa Alley, Family & Youth Service Worker | P.O. Box 1157, Skagway, AK 99840-1157 | (907) 983-4068 | (907) 983-3068 | melissa@skagwaytraditional.org.
South Naknek Village | Lorianne Zimin, ICWA Coordinator | 2521 E. Mountain Village Dr., Ste. B PMB 388, Wasilla, AK 99654-7377 | (907) 631-3648 | (907) 631-0949 | N/A
Stebbins Community Association | Heather Payenna, CFS Manager | Kawerak Inc. Children & Family Services, P.O. Box 948, Nome, AK 99762-0948 | (907) 443-4261 | (907) 443-4601 | hpayenna@kawerak.org.
Sun'aq Tribe of Kodiak | Linda Resoff, Social Services Director | 312 West Marine Way, Kodiak, AK 99615-6396 | (907) 486-0260 | (907) 486-0264 | socialservices@sunaq.org.
Takotna Village | Miriam A. Titus, Child Protection Program Manager | Tanana Chiefs Conference, 122 First Avenue, Suite 600, Fairbanks, AK 99701-4899 | (907) 452-8251 | (907) 459-3984 | miriam.titus@tananachiefs.org.
Tangirnaq Native Village (aka Woody Island) | Gordon Pullar, Jr., President | 3449 Rezanof Drive East, Kodiak, AK 99615-6952 | (907) 486-9872 | (907) 486-4829 | info@woodyisland.com.
Telida Village | Miriam A. Titus, Child Protection Program Manager | Tanana Chiefs Conference, 122 First Avenue, Suite 600, Fairbanks, AK 99701-4899 | (907) 452-8251 | (907) 459-3984 | miriam.titus@tananachiefs.org.
Traditional Village of Togiak | Crystal Nixon-Luckhurst, Children's Services Division Manager | Bristol Bay Native Association, P.O. Box 310, Dillingham, AK 99576 | (907) 842-4139 | (907) 842-4106 | cnixon@bbna.com.
Tuluksak Native Community | ICWA Director, ICWA Director | Association of Village Council Presidents, P.O. Box 219, Bethel, AK 99559 | (907) 543-8691 | (907) 543-7644 | icwa2@avcp.org.
Twin Hills Village | Crystal Nixon-Luckhurst, Children's Services Division Manager | Bristol Bay Native Association, P.O. Box 310, Dillingham, AK 99576 | (907) 842-4139 | (907) 842-4106 | cnixon@bbna.com.
Ugashik Village | Steven Alvarez, Tribal Administrator | 2525 Blueberry Road, Suite 205, Anchorage, AK 99503-2647 | (907) 338-7611 | (907) 338-7659 | manager@ugashikvillage.com.
Umkumiut Native Village | ICWA Director | Association of Village Council Presidents, P.O. Box 219, Bethel, AK 99559 | (907) 543-8691 | (907) 543-7644 | icwa2@avcp.org.
Village of Alakanuk | Charlene Striling, Community Family Service Specialist III | Association of Village Council Presidents, P.O. Box 219, Bethel, AK 99559 | (907) 543-8691 | (907) 543-7644 | icwa2@avcp.org.
Village of Anaktuvuk Pass | Joshua Stein, Director of Social Services | Arctic Slope Native Association, P.O. Box 1232, Barrow, AK 99723-1232 | (907) 852-9374 | (907) 852-2761 | Joshua.stein@arcticslope.org.
Village of Aniak | Mary L. Kvamme, ICWA Worker | P.O. Box 349, Aniak, AK 99556 | (907) 675-4349 | (907) 675-4513 | mkvamme61@gmail.com.
Village of Atmautluak | Andrew Steven, Tribal Administrator | P.O. Box 6568, Atmautluak, AK 99559-6568 | (907) 553-5610 | (907) 553-5612 | atmautluaktc@gmail.com.
Village of Bill Moore's Slough | ICWA Director | Association of Village Council Presidents, P.O. Box 219, Bethel, AK 99559 | (907) 543-8691 | (907) 543-7644 | icwa2@avcp.org.
Village of Chefornak | Edward Kinegak, ICWA Specialist | P.O. Box 110, Chefornak, AK 99561-0110 | (907) 867-8808 | (907) 867-8711 | suckaq@gmail.com.
Village of Clarks Point | Crystal Nixon-Luckhurst, Children's Services Division Manager | Bristol Bay Native Association, P.O. Box 310, Dillingham, AK 99576 | (907) 542-4139 | (907) 842-4106 | cnixon@bbna.com.
Village of Crooked Creek | ICWA Director, ICWA Director | Association of Village Council Presidents, P.O. Box 219, Bethel, AK 99559 | (907) 543-8691 | (907) 543-7644 | icwa2@avcp.org.
Village of Dot Lake | Tracy Charles-Smith, President | P.O. Box 70494, Fairbanks, AK 99701-0494 | (907) 347-1251 | (907) 882-5558 | mwalleri@fairbanksaklaw.com.
Village of Iliamna | Louise Anelon, Deputy Admin/ICWA Worker | P.O. Box 286, Iliamna, AK 99606-0286 | (907) 571-1246 | (907) 571-3539 | louise.anelon@iliamnavc.org.
Village of Kalskag | ICWA Director, ICWA Director | Association of Village Council Presidents, P.O. Box 219, Bethel, AK 99559 | (907) 543-8691 | (907) 543-7644 | icwa2@avcp.org.
Village of Kaltag | Miriam A. Titus, Child Protection Program Manager | Tanana Chiefs Conference, 122 First Avenue, Suite 600, Fairbanks, AK 99701-4899 | (907) 452-8251 | (907) 459-3984 | miriam.titus@tananachiefs.org.
Village of Kotlik | Charlene Striling, Community Family Service Specialist III | Association of Village Council Presidents, P.O. Box 219, Bethel, AK 99559 | (907) 543-8691 | (907) 543-7644 | icwa2@avcp.org.
Village of Lower Kalskag | ICWA Director, ICWA Director | Association of Village Council Presidents, P.O. Box 219, Bethel, AK 99559 | (907) 543-8691 | (907) 543-7644 | icwa2@avcp.org.
Village of Ohogamiut | ICWA Director, ICWA Director | Association of Village Council Presidents, P.O. Box 219, Bethel, AK 99559 | (907) 543-8691 | (907) 543-7644 | icwa2@avcp.org.
Village of Red Devil | ICWA Director, ICWA Director | Association of Village Council Presidents, P.O. Box 219, Bethel, AK 99559 | (907) 543-8691 | (907) 543-7644 | icwa2@avcp.org.
Village of Sleetmute | ICWA Director, ICWA Director | Association of Village Council Presidents, P.O. Box 219, Bethel, AK 99559 | (907) 543-8691 | (907) 543-7644 | icwa2@avcp.org.
Village of Solomon | Kirsten Timbers, President | P.O. Box 2053, Nome, AK 99762-2053 | (907) 443-4985 | (907) 443-5189 | tc.sol@kawerak.org.
Village of Stony River | ICWA Director, ICWA Director | Association of Village Council Presidents, P.O. Box 219, Bethel, AK 99559 | (907) 543-8691 | (907) 543-7644 | icwa2@avcp.org.
Village of Venetie (See Native Village of Venetie Tribal Government) | Miriam A. Titus, Child Protection Program | Tanana Chiefs Conference, 122 First Avenue, Suite 600, Fairbanks, AK 99701-4899 | (907) 452-8251 | (907) 459-3984 | miriam.titus@tananachiefs.org.
Village of Wainwright | Joshua Stein, Director of Social Services | Arctic Slope Native Association, P.O. Box 1232, Barrow, AK 99723-1232 | (907) 852-9374 | (907) 852-2761 | joshua.stein@arcticslope.org.
Wrangell Cooperative Association | Barbara Dude, Family Services Administrator | Central Council of the Tlingit and Haida Indian Tribes, 320 W. Willoughby Ave. Suite 300, Juneau, AK 99801-1772 | (907) 463-7169 | (907) 885-0032 | icwamail@ccthita-nsn.gov.
Yakutat Tlingit Tribe | Penny James, Human Services Director | P.O. Box 387, Yakutat, AK 99689-0387 | (907) 784-3368 | (907) 784-3664 | pjames@ytttribe.org.
Yupiit of Andreafski | Geraldine Beans, ICWA Director | P.O. Box 88, St. Mary's, AK 99658-0088 | (907) 438-2572 | (907) 438-2573 | andreafski.icwa@gmail.com.

2. Eastern Region

Eastern Regional Director, 545 Marriott Drive, Suite 700, Nashville, TN 37214; Phone: (615) 546-6500; Fax: (615) 564-6701.

Tribe | ICWA POC | Mailing address | Phone No. | Fax No. | Email address
Aroostook Band of Micmacs | Luke Joseph, ICWA Director | 7 Northern Road, Presque Isle, ME 04769 | (207) 764-1972 | (207) 764-7667 | ljoseph@micmac-nsn.gov.
Catawba Indian Nation | Jessica Grant, Program Manager | Catawba Indian Nation, 996 Avenue of Nations, Rock Hill, SC 29730 | (803) 366-4792 | (803) 325-1242 | jessica.grant@catawbaindian.net.
Cayuga Nation | Sharon Leroy, Executor | PO Box 803, Seneca Falls, NY 13148 | (315) 568-0750 | (315) 568-0752 | sharon.leroy@nsncayuganation-nsn.gov.
Chickahominy Indian Tribe, Inc. | Martha N. Adkins, ICWA Coordinator | PO Box 184, King William, VA 23087 | (804) 829-2027 | N/A | N/A.
Chickahominy Indians—Eastern Division | Gene W. Adams, Chief | 8200 Loft Cary Road, Providence Forge, VA 23140 | (808) 966-7815 | N/A | N/A.
Chitimacha Tribe of Louisiana | Karen Matthews, Director of Health and Human Services | PO Box 640, Charenton, LA 70523 | (337) 923-7000 | (337) 923-2475 | karen@chitimacha.gov.
Coushatta Tribe of Louisiana | Rayne Langley, Social Services Interim Director | 1984 CC Bel RD, Elton, LA 70532 | (337) 584-1433 | N/A | rlangley@coushattatribela.org.
Eastern Band of Cherokee Indians | Jenny Bean, Family Safety Supervisor | PO Box 666, Cherokee, NC 28719 | (828) 359-6149 | (828) 359-0216 | jennbean@nc-cherokee.com.
Houlton Band of Maliseet Indians | Lori Jewell, LMSW/cc | 13-2 Clover Court, Houlton, ME 04730 | (207) 532-7260 | (207) 532-7287 | ljewell@maliseets.com.
Jena Band of Choctaw Indians | Mona Maxwell, Social Services Director | PO Box 14, Jena, LA 71342 | (318) 992-0136 | (318) 992-4162 | mmaxwell@jenachoctaw.org.
Mashantucket Pequot Indian Tribe | Valerie Burgess, Director Child Protective Services | 102 Muhshee Mahchaq, PO Box 3313, Mashantucket, CT 06338 | (860) 396-2007 | (860) 396-2144 | vburgess@mptn-nsn.gov.
Mashpee Wampanoag Tribe | Catherine M. Hendrix, ICWA Director | 483 Great Neck Road, Mashpee, MA 02639 | (508) 477-0208 | (774) 361-6034 | catherine.hendricks@nwtribe-nsn.gov.
Miccosukee Tribe of Indians | Jennifer Prieto, Director of Social Services | PO Box 440021, Tumiami Station, Miami, FL 33144 | (305) 223-8380 | (305) 894-5232 | jenniferp@miccosukeetribe.com.
Mississippi Band of Choctaw Indians | Jessica Martinez, ICWA Coordinator | PO Box 6258, Choctaw, MS 39350 | (601) 656-4507 | (601) 656-1357 | icwa@choctaw.org.
Mohegan Tribe of Indians of Connecticut | Irene Miller, APRN | 13 Crow Hill Road, Uncasville, CT 06382 | (860) 862-6236 | (860) 862-6324 | imiller@moheganmail.com.
Monacan Indian Nation | Dean Brantham, ICWA Coordinator | PO Box 1136, Madison Heights, VA 24572 | (434) 946-0389 | N/A | N/A.
Nansemond Indian Tribe | Sam Bass, ICWA Coordinator | 1001 Pembroke Lane, Suffolk, VA 23434 | N/A | N/A | samflyingeagle@yahoo.com.
Narragansett Indian Tribe | Wenonah Harris, Director, Tribal Child Advocate | 4375B South County Trail, PO Box 268, Charlestown, RI 02813 | (401) 824-9034 | (401) 364-1104 | Wenonah@nithpo.com.
Oneida Indian Nation | Kim Jacobs, Nation Clerk | Box 1, Vernon, NY 13476 | (315) 829-8337 | (315) 366-9231 | kjacobs@oneida-nation.org.
Onondaga Nation | Cissy Elm, Director | 4040 Route 11, 104 W Conklin Ave., Nedrow, NY 133120 | (315) 469-9196 | (315) 469-3250 | N/A.
Pamunkey Indian Tribe | Allyn Cook-Swarts, Assistant Tribal Administrator | 1054 Pocahontas Trail, King William, VA 23086 | N/A | N/A | pamunkeytribe@pamunkey.org.
Passamaquoddy Tribe—Indian Township | Tene Downing, Director of Child Welfare | PO Box 301, Princeton, ME 04668 | (207) 796-6133 | (207) 796-5606 | tfdowning5@gmail.com.
Passamaquoddy Tribe—Pleasant Point | Frances LaCoute, Social Services Director | PO Box 343, Perry, ME 04667 | (207) 853-2600 | (207) 853-9618 | flacoute@wabanaki.com.
Penobscot Nation | Michael Ausgustine, Director of Social Services | 1 Down Street, Indian Island, ME 04468 | (207) 817-3461 | (207) 817-3166 | Brooke.loring@panobscotnation.org.
Poarch Band of Creek | Synthia Kyles, ICWA Director | 5811 Jack Springs Road, Atmore, AL 36502 | (251) 368-9136 | N/A | skyles@pci-nsn.gov.
Rappahannock Tribe, Inc. | G. Anne Richardson, ICWA Coordinator | 5036 Indian Neck Road, Indian Neck, VA 23148 | (804) 796-0260 | N/A | N/A.
Saint Regis Mohawk Tribe | Jean Square, ICWA Program Manager | N/A | (518) 358-2360 | (518) 358-9107 | icwa@srmt-nsn.gov.
Seminole Tribe of Florida | Shamika Patton, Tribal Family & Child Advocacy Compliance & Quality Assurance Manager | 6363 Taft St., Ste. 300B, Hollywood, FL 33024 | (954) 965-1314 | (954) 965-1304 | shamikabeasley@semtribe.com.
Seneca Nation of Indians | Josie Raphelito, Seneca Health Care Planner | 36 Thomas Indian School Drive, Irving, NY 14081 | (716) 532-8223 | (716) 945-7881 | josie.raphelito@senecahealth.org.
Seneca-Cayuga Nation | Dana Giles, Family Service Manager | 23701 South 655, Grove, OK 74344 | (918) 786-3508 | (918) 516-0248 | dgiles@sctribe.com.
Shinnecock Indian Nation | Paula Collins | PO Box 1268, South Hampton, NY 11969 | (631) 287-6476 | N/A | paulacollins@shinnecock.org.
Tonawanda Band of Seneca | Darwin Hill, Chief | Council of Chiefs, 7027 Meadville Road, Basom, NY 14013 | (716) 542-4244 | (716) 542-4008 | tonseneca@aol.com.
Tunica-Biloxi Indian Tribe | Evelyn Cass, Registered Social Worker | PO Box 493, Marksville, LA 71351 | (318) 240-6444 | (318) 500-3011 | ecass@tunica.org.
Tuscarora Nation | Chief Leo Henry, Clerk | 206 Mount Hope Road, Lewistown, NY 14092 | (716) 601-4737 | (888) 800-9787 | N/A.
Upper Mattaponi Tribe | W. Frank Adams, ICWA Coordinator | PO Box 184, King William, VA 23086 | (804) 769-0041 | N/A | N/A.
Wampanoag Tribe of Gay Head (Aquinnah) | Cheryl Andrews-Maltis, Director Human Services | 20 Black Brook Road, Aquinnah, MA 02535 | (508) 645-9265 | (508) 645-2755 | chairwoman@wampanoagtribe.net.

3. Eastern Oklahoma Region

Eastern Oklahoma Regional Director, PO Box 8002, Muskogee, OK 74402-8002; Phone: (918) 781-4600; Fax (918) 781-4604.

Tribe | ICWA POC | Mailing address | Phone No. | Fax No. | Email address
Alabama-Quassarte Tribal Town | Malinda Noon, ICWA Director | PO Box 187, Wetumka, OK 74883 | (405) 452-3659 | (405) 452-3435 | mnoon@alabama-quassarte.org.
Cherokee Nation | Lou Stretch, ICW Director | PO Box 948, Tahlequah, OK 74465 | (918) 458-6900 | (918) 458-6146 | lou-stretch@cherokee.org.
Delaware Tribe of Indians | Aimee Turner, Department of Family and Children Services | 5100 Tuxedo Blvd., Ste. C, Bartlesville, OK 74006 | (918) 337-6510 | (918) 337-6518 | aturner@delawaretribe.org.
Eastern Shawnee Tribe of Oklahoma | Tamara Gibson, Child and Family Services Coordinator | 10100 S Bluejacket Road, Suite 3, Wyandotte, OK 74370 | (918) 666-7710 | (888) 971-3908 | tgibson@estoo.net.
Kialegee Tribal Town | Angie Beaver, ICW Director | PO Box 332, Wetumka, OK 74883 | (405) 452-5388 | (405) 452-3413 | angie.beaver@kialegeetribe.net.
Miami Tribe of Oklahoma | Wanda Stovall, ICW Coodinator | PO Box 1326, Miami, OK 74355 | (918) 541-1359 | (918) 542-6448 | wstovall@miamination.com.
Ottawa Tribe of Oklahoma | Roy A. Ross, Social Services and CPS Director | PO Box 110, Miami, OK 74355 | (918) 540-1536 | (918) 542-3214 | rross.oto@gmail.com.
Peoria Tribe of Indians of Oklahoma | Tracy Coach, Indian Child Welfare Director | PO Box 1527, Miami, OK 74355 | (918) 540-2535 | (918) 540-2538 | tcoach@peoriatribe.com.
Quapaw Tribe of Oklahoma | Mandy Dement, Family Services | PO Box 765, Quapaw, OK 74363 | (918) 238-3152 | (918) 674-2581 | mdement@quapawtribe.com.
Shawnee Tribe | Sean Graham, ICW Representative | PO Box 189, Miami, OK 74355 | (918) 542-7232 | N/A | sean@shawnee-tribe.com.
The Chickasaw Nation | Michelle Price, Interim Director Child Welfare Serivces | 810 Colony Drive, Ada, OK 74820 | (580) 272-5550 | (580) 272-5553 | michelle.price@chickasaw.net.
The Choctaw Nation of Oklahoma | Amanda Robinson, ICW Director | 1802 Chukka Hina Dr., PO Box 1210, Durant, OK 74702 | (580) 924-8280 | (580) 920-3197 | arobinson@choctawnation.com.
The Modoc Tribe of Oklahoma | Regina Shelton, Division of Children and Family Services | 625 6th SE, Miami, OK 74354 | (918) 542-7890 | (918) 542-7878 | regina.shelton@modoctribe.com.
The Muscogee (Creek) Nation | Kimee Wind-Hummingbird, Director of Child and Family Services | PO Box 580, Okmulgee, OK 74447 | (918) 732-7859 | (918) 732-7855 | Kwind-hummingbird@mcn-nsn.gov.
The Osage Nation | Ladonna Shadlow, Social Services Director | 255 Senior Drive, Pawhuska, OK 74056 | (918) 287-5243 | (918) 287-5231 | lshadlow@osagenation-nsn.gov.
The Seminole Nation of Oklahoma | Tracy Haney, Director | PO Box 1498, Wewoka, OK 74884 | (405) 257-9038 | (405) 257-9036 | Haney.t@sno-nsn.gov.
Thlopthlocco Tribal Town | Yvonda Fixico, Social Service Director | PO Box 188, Okemah, OK 74859 | (918) 560-6121 | (918) 623-3023 | yfixico@tttown.org.
United Keetoowah Band of Cherokee Indians in Oklahoma | Raven Owl, ICW Advocate | PO Box 746, Tahlequah, OK 74465 | (918) 772-4300 | (918) 431-0152 | rowl@ukb-nsn.gov.
Wyandotte Nation | Tara Gragg, Social Worker | 64700 E Hwy 60, Wyandotte, OK 74370 | (918) 678-6355 | (918) 678-3087 | tgragg@wyandotte-nation.org.

4. Great Plains Region

Great Plains Regional Director, 115 4th Avenue SE, Aberdeen, SD 57401; Phone: (605) 226-7343; Fax: (605) 226-7446.

Tribe | ICWA POC | Mailing address | Phone No. | Fax No. | Email address
Cheyenne River Sioux Tribe of the Cheyenne River Reservation, SD | Diane Garreau, ICWA Program Director | 100 Main Teton Mall, PO Box 590, Eagle Butte, SD 57625 | (605) 964-6460 | (605) 964-6463 | Dgarreau61@hotmail.com.
Crow Creek Sioux Tribe of the Crow Creek Reservation, SD | Marlow Medicine Crow Jr, ICWA Director | 147 Red Horse Road, PO Box 143, Ft Thompson, SD 57339 | (605) 245-2581 | (605) 245-2401 | icwaccst@gmail.com.
Flandreau Santee Sioux Tribe of South Dakota | Jessica Morson, ICWA Administrator | 603 W Broad Ave, PO Box 283, Flandreau, SD 57028 | (605) 997-5055 | (605) 997-3694 | jessica.morson@fsst.org.
Lower Brule Sioux Tribe of the Lower Brule Reservation, SD | Jera Brouse-Koster, Designated Tribal Agent-ICWA | 187 Oyate Circle, Lower Brule, SD 57548 | (605) 473-5561 | (605) 473-0119 | jerabrouse@lowerbrule.net.
Oglala Sioux Tribe | Jake Little, ICWA Specialist | East Hwy 18, IHS Compound, PO Box 604, Pine Ridge, SD 57770 | (605) 867-5752 | (605) 867-5941 | jake@oglala.org.
Omaha Tribe of Nebraska | Mosiah Harlan, ICWA Director | 106 S Tallman Street, Walthill, NE 68067 | (402) 837-5331 | (402) 837-5362 | mosiah.harlan@omahatribe.com.
Ponca Tribe of Nebraska | Lynn Schultz, ICWA Specialist | 1800 Syracuse Avenue, Norfolk, NE 68701 | (402) 371-8834 | (402) 371-7564 | lschultz@poncatribe-ne.org.
Rosebud Sioux Tribe of the Rosebud Indian Reservation, SD | Shirley J. Bad Wound, ICWA Specialist | East Hwy 18, PO Box 609, Mission, SD 57555 | (605) 856-5270 | (605) 856-5268 | rsticwa9@gwtc.net.
Santee Sioux Nation, Nebraska | Renae Wolf, ICWA Specialist | 425 Frazier Ave N, Suite 2, RR 302-PO Box 5191, Niobrara, NE 68760 | (402) 857-2342 | (402) 857-2361 | renae.wolf@nebraska.gov.
Sisseton-Wahpeton Oyate of the Lake Traverse Reservation, SD | Evelyn Pilcher, ICWA Director | 12554 BIA Route 701, PO Box 509, Agency Village, SD 57262 | (605) 698-3992 | (605) 698-3999 | evelyn.pilcher@state.sd.us.
Spirit Lake Tribe, North Dakota | Marie Martin, ICWA Coordinator | 7184 Highway 57, PO Box 356, Fort Totten, ND 58335 | (701) 766-4404 | (701) 766-4722 | slticwadir@spiritlakenation.com.
Standing Rock Sioux Tribe of North & South Dakota | Rebecca Greybull, ICWA Coordinator | Bldg 1 Standing Rock Ave, PO Box 770, Fort Yates, ND 58538 | (701) 854-3095 | (701) 854-5575 | rgreybull@standingrock.org.
Three Affiliated Tribes of the Fort Berthold Reservation, ND | Devena First Rider, ICWA Specialist | 404 Frontage Road, New Town, ND 58763 | (701) 627-8168 | (701) 627-4225 | dfirstrider@mhanation.com.
Turtle Mountain Band of Chippewa Indians of North Dakota | Marilyn Poitra, ICWA Coordinator | 4051 Hwy 281, PO Box 900, Belcourt, ND 58316 | (701) 477-5688 | (701) 477-5797 | marilynp@tmcwfs.net.
Winnebago Tribe of Nebraska | Elexa Mollet, ICWA Specialist | 912 Mission Drive, PO Box 723, Winnebago, NE 68071 | (402) 878-2379 | (402) 878-2228 | elexa.mollet@winnebagotribe.com.
Yankton Sioux Tribe of South Dakota | Melissa Sanchez, ICWA Director | 108 East Ave SE, PO Box 1153, Wagner, SD 57380 | (605) 384-5712 | (605) 384-5014 | yst_icwa@outlook.com.

5. Midwest Region

Midwest Regional Director, 5600 West American Blvd., Suite 500, Norman Pointe II Building, Bloomington, MN 55437; Phone: (612) 725-4500; Fax: (612) 713-4401.

Tribe | ICWA POC | Mailing address | Phone No. | Fax No. | Email address
Bad River Band of Lake Superior Tribe of Chippewa Indians | Gina Secord, Abinoojiyag Resource Center Program Manager | PO Box 55, Odanah, WI 54861 | (715) 682-7135 | (715) 682-7887 | ARCMgr@badriver-nsn.gov.
Bay Mills Indian Community, Michigan | Phyllis Kinney, Tribal Court Administrator | 12449 West Lakeshore Drive, Brimley, MI 49715 | (906) 248-3241 | (906) 248-8811 | phyllisk@baymills.org.
Forest County Potawatomi Community, Wisconsin | Maline Enders, ICWA Supervisor | 5415 Everybody's Road, Crandon, WI 54520 | (715) 478-4812 | (715) 478-7442 | maline.enders@fcpotawatomi-nsn.gov.
Grand Traverse Band of Ottawa & Chippewa Indians, Michigan | Helen Cook, Anishinaabek Family Services Supervisor | 2605 N West Bayshore Drive, Peshawbestown, MI 49682-9275 | (231) 534-7681 | (231) 534-7706 | helen.cook@gtbindians.com.
Hannahville Indian Community, Michigan | Wendy Lanaville, ICWA Worker | N15019 Hannahville B1 Road, Wilson, MI 49896 | (906) 723-2512 | (906) 466-7397 | wendy.lanaville@hichealth.org.
Ho-Chunk Nation of Wisconsin | Valerie Blackdeer, CFS Director | PO Box 40, Black River Falls, WI 54615 | (715) 284-2622 | (715) 284-9486 | valerie.blackdeer@ho-chunk.com.
Keweenaw Bay Indian Community, Michigan | Caitlin Bowers, Director | 16429 Bear Town Road, Baraga, MI 49908 | (906) 353-4201 | (906) 353-8171 | cbowers@kbic-nsn.gov.
Lac Courte Oreilles Band of Lake Superior Chippewa Indians of Wisconsin | Tibissum Rice, Indian Child Welfare Director | 13394 W Trepania Road, Hayward, WI 54843 | (715) 558-7473 | (715) 634-2981 | Tibissum.Rice@lco-nsn.gov.
Lac du Flambeau Band of Lake Superior Chippewa Indians of the Lac du Flambeau Reservation of Wisconsin | Kristin Allen, ICW Director | PO Box 216, Lac du Flambeau, WI 54538 | (715) 588-4275 | (715) 588-3855 | ldficw@ldftribe.com.
Lac Vieux Desert Band of Lake Superior Chippewa Indians of MI | Dee Dee McGeshick, Social Services Director and Marisa Vanzile | PO Box 249, Watersmeet, MI 49969 | (906) 358-4940 | (906) 358-9920 | dee.mcgeshick@lvdtribal.com.
Little River Band of Ottawa Indians, Michigan | Shayne Machen, Prosecutor | 3031 Domres Road, Manistee, MI 49660 | (231) 398-3384 | (231) 398-3387 | shayne_machen@lrboi-nsn.gov.
Little Traverse Bay Bands of Odawa Indians, Michigan | Heather Boening, Human Services Director | 7500 Odawa Circle, Attn: DHS Harbor Springs, MI 49740 | (231) 242-1620 | (213) 242-1635 | hboening@ltbbodawa-nsn.gov.
Lower Sioux Indian Community in the State of Minnesota | Lisa jones, Director | 39458 Reservation Highway 1, Morton, MN 56270 | (507) 697-8683 | (507) 697-6198 | lisa.jones@lowersioux.com.
Match-e-be-nash-she-wish Band of Pottawatomi Indians of Michigan | Dominique Ambriz, ICWA Representative | 2880 Mission Dr., Shelbyville, MI 49344 | (269) 397-1760 | (269) 397-1763 | Dominique.Ambriz@hhs.glt-nsn.gov.
Menominee Indian Tribe of Wisconsin | Carol Corn, Director of Social Services | PO Box 520, Keshena, WI 54135 | (715) 799-5161 | (715) 799-6061 | ccorn@mitw.org.
Minnesota Chippewa Tribe | George Goggleye, Human Services Director | PO Box 217, Cass Lake, MN 56633 | (218) 335-8586 | (218) 335-8080 | ggoggleye@mnchippewatribe.org.
Minnesota Chippewa Tribe—Bois Forte Band (Nett Lake) | Angela Wright, Indian Child Welfare Supervisor | 13071 Nett Lake Road, Suite A, Nett Lake, MN 55771 | (218) 757-3295 | (218) 757-3335 | amwright@boisforte-nsn.gov.
Minnesota Chippewa Tribe—Fond du Lac Band | Kevin Dupuis, Chairman. Indian Child Welfare Supervisor | 1720 Big Lake Road, Cloquet, MN 55720 | (218) 879-4593 | (218) 879-4146 | kevindupuis@fdlrez.com.
Minnesota Chippewa Tribe—Grand Portage Band | ICWA Representative, Human Service Director | PO Box 428, Grand Portage, MN 55605 | (218) 475-2453 | (218) 475-2455 | humanservices@grandportage.com.
Minnesota Chippewa Tribe—Leech Lake Band | Dawn Eckdahl, Human Services Division Director | 190 Sailstar Dr. NE, PO Box 967, Cass Lake, MN 56633 | (218) 335-8270 | (218) 335-3768 | Dawn.Eckdahl@llojibwe.org.
Minnesota Chippewa Tribe—Mille Lacs Band | Mishelle Ballinger, Administrative Case Aid Intake Family Services | 101 Pony Farm Rd., Onamia, MN 56359 | (320) 532-7766 | (320) 532-4569 | mishelle.ballinger@hhs.millelacsband-nsn.gov.
Minnesota Chippewa Tribe—White Earth Band | Laurie York, Program Director | White Earth Indian Child Welfare, PO Box 358, White Earth, MN 56591 | (218) 983-4647 | (218) 983-3712 | laurie.york@whiteearth-nsn.gov.
Nottawaseppi Huron Band of the Potawatomi, MI | Meg Fairchild, Social Services Manager | 1485 Mno Bmadzewen Way, Fulton, MI 49052 | (269) 704-8341 | (269) 729-5920 | mfairchild@nhbp.org.
Oneida Nation | ICWA director, ICWA Supervisor | Attn: Children and Family Services, PO Box 365, Oneida, WI 54155 | (920) 490-3700 | (920) 490-3820 | icw@oneidanation.org.
Pokagon Band of Potawatomi Indians, Michigan & Indiana | Mark Pompey, Social Services Director | 58620 Sink Road, Dowagiac, MI 49047 | (269) 462-4277 | (269) 782-4295 | mark.pompey@pokagonband-nsn.gov.
Prairie Island Indian Community in the State of MN | Patricia Aw-Yang, Enrollment Office | 5636 Sturgeon Lake Road, Welch, MN 55089 | (651) 385-4126 | (651) 385-4180 | Patricia.Aw-Yang@piic.org.
Red Cliff Band of Lake Superior Chippewa Indians of Wisconsin | Gretchen Morris, Indian Child Welfare Director | 37820 Community Road, Bayfield, WI 54814 | (715) 779-3785 | (715) 779-3783 | gretchen.morris@redcliff-nsn.gov.
Red Lake Band of Chippewa Indians, Minnesota | ICWA Representative, Executive Director-Family & Children Services | PO Box 427, Red Lake, MN 56671 | (612) 286-8057 | N/A | icwa@redlakenation.org.
Sac & Fox Tribe of the Mississippi in Iowa | Brian Walker, ICWA Contact | PO Box 245, Tama, IA 52339 | (641) 484-4444 | (641) 484-2103 | sww.mfs@meskwaki-nsn.gov.
Saginaw Chippewa Indian Tribe of Michigan | Angela Gonzalez, ICWA & Licensing Supervisor | 7070 East Broadway Road, Mt. Pleasant, MI 48858 | (989) 775-4901 | (989) 775-4912 | agonzalez@sagchip.org.
Sault Ste. Marie Tribe of Chippewa Indians, Michigan | Melissa VanLuven, ICWA Program Director | 2218 Shunk Rd, Sault Ste. Marie, MI 49783 | (906) 632-5250 | (906) 632-5266 | ICWA-MIFPA-Contacts@saulttribe.net.
Shakopee Mdewakanton Sioux Community of Minnesota | Tribal Records, ICWA Contact | 2330 Sioux Trail NW, Prior Lake, MN 55372 | (952) 496-6101 | N/A | tribalrecords@shakopeedakota.org.
Sokaogon Chippewa Community, Wisconsin | Nick Vanzile, Director Indian Child Welfare | 10808 Sokaogon Drive, Crandon, WI 54520 | (715) 478-6437 | (715) 478-0692 | nick.vanzile@scc-nsn.gov.
St. Croix Chippewa Indians of Wisconsin | Elizabeth Lowe, Indian Child Welfare Director | 4404 State Road 70, Webster, WI 54893 | (715) 349-8554 | (715) 349-8665 | elizabethl@stcroixtribalcenter.com.
Stockbridge Munsee Community, Wisconsin | Teresa Juga, ICWA Manager | Stockbridge Munsee Health and Wellness Center, W12802 County A Bowler, WI 54416 | (715) 793-4580 | (715) 793-1312 | teresa.juga@mohican.com.
Upper Sioux Community, Minnesota | Kathleen Pruess, ICWA Representative | PO Box 147, 5744 Hwy. 67, Granite Falls, MN 56241 | (320) 564-6318 | (320) 564-2550 | kathleenp@uppersiouxcommunity.nsn.gov.

6. Navajo Region

Navajo Regional Director, Navajo Regional Office, PO Box 1060, Gallup, NM 87305; Phone: (505) 863-8314; Fax: (505) 863-8324.

Tribe | ICWA POC | Mailing address | Phone No. | Fax No. | Email address
Navajo Nation, Arizona, New Mexico & Utah | Regina Yazzie, Program Director | PO Box 1930, Window Rock, AZ 86515 | (928) 871-6806 | (928) 871-7667 | reginayazzie@navajo-nsn.gov.

7. Northwest Region

Northwest Regional Director, 911 NE 11th Avenue, Portland, OR 97232; Phone: (503) 231-6702; Fax (503) 231-2201.

Tribe | ICWA POC | Mailing address | Phone No. | Fax No. | Email address
Burns Paiute Tribe | Maureen Hoodie, Children and Family Services Director | 100 Pasigo Street, Burns, OR 97720 | (541) 573-8043 | (541) 573-4217 | maureen.hoodie@burnspaiute-nsn.gov.
Coeur D'Alene Tribe | Charles Henry, ICW Program Manager | PO Box 408, 850 A St., Plummer, ID 83851 | (208) 686-2071 | (208) 686-2059 | chenry@cdatribe-nsn.gov.
Confederated Salish & Kootenai Tribes of the Flathead Reservation | Lena Tewawina, ICW Caseworker | PO Box 278, 42487 Complex Blvd, Pablo, MT 59821 | (406) 675-2700 | N/A | lena.tewawina@cskt.org.
Confederated Tribes and Bands of the Yakama Nation | Jessica Rammelsberg, Assistant Prosecutor | PO Box 151, 401 Fort Rd, Toppenish, WA 98948 | (509) 865-5121 | (509) 865-8936 | Jessica_Rammelsberg@yakama.com.
Confederated Tribes of Coos, Lower Umpqua and Siuslaw Indians | Shayne Platz and Melanie Mateski, Lead ICWA Case Mgr and ICWA Case Mgr | 1245 Fulton Ave, Coos Bay, OR 97420 | (541) 297-3450 | (541) 304-2180 | splatz@ctclusi.org.
Confederated Tribes of Siletz Indians of Oregon | Arthur Fisher and Cheryl Duprau, Staff Attorney and ICW Manager | PO Box 549, Siletz, OR 97380 | (541) 444-8324 | (541) 444-2307 | arthurf@ctsi.nsn.us.
Confederated Tribes of the Chehalis Reservation | Francis Pickernell, Director of Social Services | PO Box 536, 420 Howanut Rd, Oakville, WA 98568 | (360) 709-1754 | (360) 273-5207 | fpickernell@chehalistribe.org.
Confederated Tribes of the Colville Reservation | Buffy Nicholson, Children and Family Services Director | PO Box 150, 21 Colville St, Nespelem, WA 99155-011 | (509) 634-2764 | (509) 634-2633 | buffy.nicholson@colvilletribes.com.
Confederated Tribes of the Grand Ronde Community of Oregon | Donna Johnson, ICWA Intake | 9615 Grand Ronde Road, Grand Ronde, OR 97347-0038 | (503) 879-4529 | (503) 879-2142 | donna.johnson@grandronde.org.
Confederated Tribes of the Umatilla Indian Reservation | M. Brent Leonhard, Attorney | 46411 Timine Way, Pendleton, OR 97801 | (541) 429-7406 | N/A | brentleonhard@ctuir.org.
Confederated Tribes of the Warm Springs Reservation of Oregon | Lisa Lomas and Cecelia Collins, Chief Judge and CPS Director | PO Box 850, Warm Springs, OR 97761 | (541) 553-3278 | (541) 553-3281 | lisa.loma@wstribes.org.
Coquille Indian Tribe | Roni Jackson, ICWA Caseworker | 600 Miluk Drive, PO Box 3190, Coos Bay, OR 97420 | (541) 888-9494 | (541) 888-0673 | ronijackson@coquilletribe.org.
Cow Creek Band of Umpqua Tribe of Indians | Michele Moore, Human Services Director | 2371 NE Stephens Street, Roseburg, OR 97470 | (541) 643-8241 | (541) 677-5565 | mmoore@cowcreek.com.
Cowlitz Indian Tribe | D.J. Personius, ICW Case Manager | 15455 65th Ave. S, Tukwila, WA 98188 | (206) 491-9266 | (206) 721-6288 | dpersonius.health@cowlitz.org.
Hoh Indian Tribe | Lola Moses, Family Services Manager | PO Box 2196, Forks, WA 98331 | (360) 374-5037 | (360) 374-5426 | lola.moses@hohtribe-nsn.org.
Jamestown S'Klallam Tribe | Loni Greninger, ICW Supervisor | Social and Community Services, 1033 Old Blyn Hwy, Sequim, WA 98382 | (360) 681-4660 | (360) 681-3402 | lgreninger@jamestowntribe.org.
Kalispel Indian Community of the Kalispel Reservation | Wendy Thomas, MSW | 934 S Garfield Road, Airway Heights, WA 99001 | (509) 789-7630 | (509) 789-7675 | wthomas@camashealth.com.
Klamath Tribes | Candi Uses Arrow, CFS Manager | PO Box 436, Chiloquin, OR 97624 | (541) 783-2219 | (541) 783-7783 | candi.usesarrow@klamathtribes.com.
Kootenai Tribe of Idaho | Desire Aitken, Treasurer | PO Box 1269, Bonners Ferry, ID 83805 | (208) 267-3519 | (208) 267-2960 | desire@kootenai.org.
Lower Elwha Tribal Community | Rebecca Sampson-Weed, Social Services Director | 3080 Lower Elwha Road, Port Angeles, WA 98363 | (360) 461-7033 | (866) 277-3141 | elwhaicw@elwha.org.
Lummi Tribe of the Lummi Reservation | Denise Jefferson, ICWA Manager | PO Box 1024, Ferndale, WA 98248 | (360) 384-2324 | (360) 384-2341 | denisej@lummi-nsn.gov.
Makah Indian Tribe of the Makah Indian Reservation | Michelle Claplanpoo, Lead ICW Caseworker | PO Box 115, Neah Bay, WA 98357 | (360) 645-3044 | (360) 645-2685 | michelle.claplanhoo@makah.com.
Metlakatla Indian Community, Annette Island Reserve | Jacqueline Wilson, ICWA Caseworker | PO Box 8, Metlkatla, AK 99926 | (907) 886-6914 | (907) 886-6913 | jwilsonm4@outlook.com.
Muckleshoot Indian Tribe | Alexandria Cruz-James, Director of Human Services | 39015 172nd Avenue SE, Auburn, WA 98092 | (253) 876-3261 | (253) 876-3095 | alex.cruz@muckleshoot.nsn.us.
Nez Perce Tribe | Joni Williams, ICW Director | 271 B Street, PO Box 365, Lapwai, ID 83540 | (208) 621-4709 | (208) 843-9401 | joniw@nezperce.org.
Nisqually Indian Tribe | Lorraine Van Brunt, Child and Family Services Manager | 4820 She-Nah-Num Drive SE, Olympia, WA 98513 | (360) 456-5221 | (360) 486-9555 | Vanbrunt.lorraine@nisqually-nsn.gov.
Nooksack Indian Tribe | Katrice Rodriquez, Youth & Family Services Director | PO Box 157, Deming, WA 98244 | (360) 306-5090 | (360) 306-5099 | krodriguez@nooksack-nsn.gov.
Northwestern Band of the Shoshone Nation | Patty Timbimboo-Madsen, ICWA Manager | Enrollment Department, 707 North Main, Brigham City, UT 84302 | (435) 734-2286 | (435) 723-6320 | ptimbimboo@nwbshoshone.com.
Port Gamble S'Klallam Tribe | Cheryl Miller, Children and Family Community Services Director and Joylina Gonzales | 31912 Little Boston Road NE, Kingston, WA 98346 | (360) 297-9665 | (360) 297-9666 | N/A.
Puyallup Tribe of the Puyallup Reservation | Sandra Cooper, ICW Tribal/State Liaison | 3009 E Portland Avenue, Tacoma, WA 98404 | (253) 405-7544 | (253) 680-5998 | N/A.
Quileute Tribe of the Quileute Reservation | Charlene Meneely, ICW Program Manager | PO Box 279, LaPush, WA 98350 | (360) 640-2428 | (360) 640-8795 | charlene.meneely@quileutetribe.com.
Quinault Indian Nation | Amelia DeLaCruz and Dawnadair Lewis-Raincloud, Social Services Manager and ICW Manager | PO Box 189, Taholah, WA 98587 | (360) 276-8211 | (360) 276-4152 | icw@quinault.org.
Samish Indian Nation | Gary Gaggens, Social Services Director | Samish Nation Social Services, 715 Seafarer's Way, Suite 103, Anacortes, WA 98221 | (360) 899-5282 | (360) 299-4357 | ggaggens@samishtribe.nsn.us.
Sauk-Suiattle Indian Tribe | Donna Furchert, ICW Director | 5318 Chief Brown Lane, Darrington, WA 98241 | (360) 436-0598 | (360) 436-1533 | dfurchert@sauk-suiattle.com.
Shoalwater Bay Indian Tribe of the Shoalwater Bay Indian Reservation | Katherine Horne, Director | PO Box 130, Tokeland, WA 98590 | (360) 267-8134 | (360) 267-0247 | khorne@shoalwaterbay-nsn.gov.
Shoshone-Bannock Tribes of the Fort Hall Reservation | Brandelle Whitworth, Assoc. General Counsel | PO Box 306, Ft. Hall, ID 83203 | (208) 478-3923 | (208) 237-9736 | bwhitworth@sbtribes.com.
Skokomish Indian Tribe | Denese LaClair, Health Director | 100 N Tribal Center Road, Skokomish, WA 98584 | (360) 426-5755 | (360) 877-2399 | dlaclair@skokomish.org.
Snoqualmie Indian Tribe | Carlee Gorman, SICW Program Manager | PO Box 969, Snoqualmie, WA 98065 | (425) 888-6551 | (425) 628-1439 | carlee@snoqualmietribe.us.
Spokane Tribe of the Spokane Reservation | Ricki Peone & Tawhnee Colvin, HHS Director & Assistant HHS Director | PO Box 540, Wellpinit, WA 99040 | (509) 258-7502 | (509) 258-7029 | ricki.peone@spokanetribe.com.
Squaxin Island Tribe of the Squaxin Island Reservation | Charlene Abrahamson and Adirian Abillar, Family Services Director and ICW Manager | 10 SE Squaxin Lane, Shelton, WA 98584-9200 | (360) 432-3914 | (360) 427-2652 | cabrahamson@squaxin.us.
Stillaguamish Tribe of Indians of Washington | Candy Hamilton, ICW Director | PO Box 3782, 17014 59th Ave NE, Arlington, WA 98223 | (360) 572-3460 | (360) 925-2862 | icw@stillaguamish.com.
Suquamish Indian Tribe of the Port Madison Reservation | Nehreen Ayub, Acting Human Services Director | PO Box 498, Suquamish, WA 98392 | (360) 394-8479 | (360) 697-6774 | nayub@suquamish.nsn.us.
Swinomish Indian Tribal Community | Tracy Parker, Swinomish Family Services Coordinator | 17337 Reservation Rd, LaConner, WA 98257 | (360) 466-7222 | (360) 466-1632 | tparker@swinomish.nsn.us.
Tulalip Tribes of Washington | Roberta Hillaire and Jennifer Walls, beda?chelh Director and Lead ICW Worker | 2828 Mission Hill Road, Tulalip, WA 98271 | (360) 716-4068 | (360) 716-0750 | rhilliare@tulaliptribes-nsn.gov.
Upper Skagit Indian Tribe | Felice Keegahn, Indian Child Welfare Coordinator | 25944 Community Plaza Way, Sedro Woolley, WA 98284 | (360) 854-7077 | (360) 854-7125 | felicek@upperskagit.com.

8. Pacific Region

Pacific Regional Director, BIA, Federal Building, 2800 Cottage Way, Room W-2820, Sacramento, CA 95825; Phone: (916) 978-6000; Fax: (916) 978-6099.

Tribe | ICWA POC | Mailing address | Phone No. | Fax No. | Email address
Agua Caliente Band of Cahuilla Indians of the Agua Caliente Indian Reservation, California | Jeff Grubbe, Chairman | 5401 Dinah Shore Drive, Palm Springs, CA 92264 | (760) 699-6919 | (760) 699-6863 | jplata@aguacaliente.net.
Alturas Indian Rancheria, CA | Phillip Del Rosa, | PO Box 340, Alturas, CA 96101 | (541) 941-2324 | (530) 223-4165 | air530@yahoo.com.
Augustine Band of Cahuilla Indians, California | Heather Haines, Tribal Operations Manager | PO Box 846, Coachella, CA 92236 | (760) 398-4722 | (760) 368-4252 | hhaines@augustinetribe.com.
Bear River Band of the Rohnerville Rancheria, California | Barry Brenard, Chairman | 266 Keisner Rd., Loleta, CA 95551 | (707) 572-8264 | (707) 875-7229 | barrybrenard@brb-nsn.gov.
Berry Creek Rancheria of Maidu Indians of California | Maria Ramirez, ICWA Director & Tribal Representative | 5 Tyme Way, Oroville, CA 95966 | (530) 534-3859 | (530) 534-0343 | mramirez@berrycreekrancheria.com.
Big Lagoon Rancheria, California | Virgil Moorehead, Chairperson | PO Box 3060, Trinidad, CA 95570 | (707) 826-2079 | (707) 826-0495 | vmoorehead@earthlink.net.
Big Pine Paiute Tribe of the Owens Valley |  | PO Box 700, 825 S Main St., Big Pine, CA 93513 | (760) 938-2003 | (760) 938-2942 | info@bigpinepaiute.org.
Big Sandy Rancheria of Western Mono Indians of California | Tamara Hiebert, ICWA Representative | PO Box 337, Auberry, CA 93602 | (559) 374-0066 | N/A | bsricwa@bsrnation.com.
Big Valley Band of Pomo Indians of the Big Valley Rancheria, California | ICWA Representative | ICWA, 2726 Mission Rancheria Road, Lakeport, CA 95453 | (707) 263-3924 | (707) 533-2941 | resparza@big-valley.net.
Bishop Paiute Tribe | Sabrina Renteria, Chief Operations Officer | 50 TuSu Lane, Bishop, CA 93514 | (760) 873-7799 | (760) 873-3529 | sabrina.renteria@bishoppaiute.org.
Blue Lake Rancheria, California | Claudia Brundin, Chairperson | PO Box 428, Blue Lake, CA 95525 | (707) 668-5101 | (707) 668-4272 | lalbright@bluelakerancheria-nsn.gov.
Bridgeport Indian Colony | John Glazier, Tribal Chair | 355 Sage Brush Drive, Bridgeport, CA 93517 | (760) 932-7083 | (760) 932-7846 | chair@bridgeportindiancolony.com.
Buena Vista Rancheria of Me-Wuk Indians of California | Christina Pimental, Receptionist | 1418 20th St., Suite 200, Sacramento, CA 95811 | (916) 491-0011 | (916) 491-0012 | christina@BuenaVistaTribe.com.
Cabazon Band of Mission Indians, California | Doug Welmas, Chairman | 84-245 Indio Springs Parkway, Indio, CA 92203 | (760) 342-2593 | (760) 347-7880 | nmarkwardt@cabazonindians-nsn.gov.
Cachil DeHe Band of Wintun Indians of the Colusa Indian Community of the Colusa Rancheria, California | Yvonne Page, Counselor | 3730 Highway 45, Colusa, CA 95932 | (530) 458-6571 | (530) 458-8061 | ypage@colusa-nsn.gov.
Cahto Tribe of the Laytonville Rancheria | Mary J. Norris, Chairperson | PO Box 1239, Laytonville, CA 95454 | (707) 984-6197 | (707) 984-6201 | chairman@cahto.org.
Cahuilla Band of Indians | Lisa Mariano, Social Worker | 52701 Hwy 371, Anza, CA 92539-1760 | (951) 795-8672 | (951) 763-2808 | Socialworker@cahuilla.net.
California Valley Miwok Tribe, California | N/A | N/A | N/A | N/A | N/A.
Campo Band of Diegueno Mission Indians of the Campo Indian Reservation, California | Indian Child Social Services Director, Indian Child Social Services Director | 4058 Willow Road, Alpine, CA 91901 | (619) 445-1188 | (619) 659-3144 | N/A.
Capitan Grande Band of Diegueno Mission Indians of California (Barona Group of Capitan Grande Band of Mission Indians of the Barona Reservation, California) | Indian Child Social Services, Indian Child Social Services | 1095 Barona Road, Lakeside, CA 92040 | (619) 443-6612 | (619) 443-0681 | counciloffice@barona-nsn.gov.
Captian Grande Band of Diegueno Mission Indians of California: Viejas (Baron Long) Group of Capitan Grande Band of Mission Indians of the Viejas Reservation, California | John Christman, Chairman | PO Box 908, Alpine, CA 91901 | (619) 445-3810 | N/A | N/A.
Cedarville Rancheria, California | Richard Lash, Chairperson | 300 West 1st Street, Alturas, CA 96101 | (530) 233-3969 | (530) 233-4776 | cr.munholand@gmail.com.
Cher-Ae Heights Indian Community of the Trinidad Rancheria, California | Amy Atkins, Executive Manager | PO Box 630, Trinidad, CA 95570 | (707) 677-0211 | (707) 677-3921 | aatkins@trinidadrancheria.com.
Chicken Ranch Rancheria of Me-wuk Indians of California | Lloyd Mathiesen, Chairman | PO Box 1159, Jamestown, CA 95327 | (209) 984-9066 | (209) 984-5606 | chixrnch@mlode.com.
Cloverdale Rancheria of Pomo Indians of California | Patricia Mermosillo, Chairperson | 555 S Cloverdale Blvd., Cloverdale, CA 95425 | (707) 894-5775 | (707) 894-5727 | N/A.
Cold Springs Rancheria of Mono Indians of California | Helena Alarcon, Chairperson | PO Box 209, Tollhouse, CA 93667 | (559) 855-5043 | (559) 855-4445 | N/A.
Coyote Valley Band of Pomo Indians of California | Liz Elgin DeRouen, Executive Director | 2525 Cleveland Ave., Suite H, Santa Rosa, CA 95403 | (707) 463-2644 | (707) 463-8956 | liz@icfpp.net.
Death Valley Timbi-sha Shoshone Tribe | Wallace Eddy, ICWA Representative | 621 West Line Street, Suite 109, Bishop, CA 93514 | (760) 872-3614 | (760) 872-3670 | icwa@timbisha.com.
Dry Creek Rancheria Band of Pomo Indians, California | Liz Elgin DeRouen, Executive Director | 2525 Cleveland Avenue, Suite H, Santa Rosa, CA 95403 | (707) 463-2644 | (707) 463-8956 | liz@icfppp.net.
Elem Indian Colony of Pomo Indians of the Sulphur Bank Rancheria, California | Augustin Garcia, Chairperson | PO Box 757, Lower Lake, CA 95457 | (707) 994-3400 | (707) 994-3408 | a.garcia@elemindiancolony.org.
Elk Valley Rancheria, California | Dale Miller, Chairman | 2332 Howland Hill Rd, Crescent City, CA 95531 | (707) 464-4680 | (707) 464-4519 | swoods@elk-valley.com.
Enterprise Rancheria of Maidu Indians of California | Shari Ghalayini, ICWA Representative | 2133 Montevista Ave, Oroville, CA 95966 | (530) 532-9214 | (530) 532-1768 | sharig@enterpriserancheria.org.
Ewiiaapaayp Band of Kumeyaay Indians, California | Indian Child Social Services Director | Southern Indian Health Council, Inc., 4058 Willows Road, Alpine, CA 91901 | (619) 445-1188 | (619) 659-3144 | N/A.
Federated Indians of Graton Rancheria, California | Greg Sarris, Chairman | 6400 Redwood Drive—Suite 300, Rohnert Park, CA 94928 | (707) 566-2288 | (707) 566-2291 | N/A.
Fort Bidwell Indian Community of the Fort Bidwell Reservation of California | Kevin Dean Townsend, Chairman | PO Box 129, Fort Bidwell, CA 96112 | (530) 279-6310 | (530) 279-2233 | liz.zendejas@fbicc.com.
Fort Independence Indian Community of Paiute Indians of the Fort Independence Reservation, California | Norman Wilder, Chairperson | PO Box 67 or 131 North Hwy 395, Independence, CA 93526 | (760) 878-5160 | (760) 878-2311 | receptionist@fortindependence.com.
Greenville Rancheria | Patty Allen, ICWA Coordinator | PO Box 279, Greenville, CA 95947 | (530) 284-7990 | (530) 284-7299 | pallen@greenvillerancheria.com.
Grindstone Indian Rancheria of Wintun-Wailaki Indians of California | Ronald Kirk, Chairman | ICWA, PO Box 63, Elk Creek, CA 95939 | (530) 968-5365 | (530) 968-5366 | girrancheria@yahoo.com.
Guidiville Rancheria of California | Merlene Sanchez, Tribal Chairperson | PO Box 339, Talmage, CA 95481 | (707) 462-3682 | (707) 462-9183 | admin@guidiville.net.
Habematolel Pomo of Upper Lake, California | Sherry Treppa, Chairperson | 375 E Hwy 20—Suite I, PO Box 516, Upper Lake, CA 95485-0516 | (707) 275-0737 | (707) 275-0757 | aarroyosr@hpultribe-nsn.gov.
Hoopa Valley Tribe, California | Ryan Jackson, Chairperson | PO Box 1348, Hoopa, CA 95546 | (530) 625-4211 | (530) 625-4594 | hoopa.receptionist@gmail.com.
Hopland Band of Pomo Indians, California | Josephine Loomis, ICWA Social Case Manager | 3000 Shanel Rd., Hopland, CA 95449 | (707) 472-2100 | (707) 744-8643 | jloomis@hoplandtribe.com.
Iipay Nation of Santa Ysabel, California | Social Services Director | Santa Ysabel Social Services Dept., PO Box 701, Santa Ysabel, CA 92070 | (760) 765-1106 | (760) 765-0312 | lipayinfo@yahoo.com.
Inaja Band of Diegueno Mission Indians of the Inaja and Cosmit Reservation, California | Social Services Manager | Indian Health Council, Inc., PO Box 406, Pauma Valley, CA 92061 | (760) 749-1410 | (760) 749-5518 | kkolb@indianhealth.com.
Ione Band of Miwok Indians of California | Sara A. Dutschke Setshwaelo, Chairperson | PO Box 699, Plymouth, CA 95669 | (209) 245-5800 | (209) 245-6377 | administrator@ionemiwok.org.
Jackson Band of Miwuk Indians | Adam Dalton, Chairperson | PO Box 1090, Jackson, CA 95642 | (209) 223-1935 | (209) 223-5366 | mmorla@jacksoncasino.com.
Jamul Indian Village of California | Indian Child Social Services Director | Southern Indian Health Council, Inc., 4058 Willow Rd., Alpine, CA 91901 | (619) 445-1188 | (619) 659-3144 | N/A.
Karuk Tribe | Russell Attebery and Patricia Hobbs, LCSW, Chairman & Director of Human Services | 1519 S Oregon Street, Yreka, CA 96097 | (530) 493-1600 | (530) 841-5150 | battebery@karuk.us.
Kashia Band of Pomo Indians of the Stewarts Point Rancheria, California | Liz Elgin DeRouen, Executive Director | 2525 Cleveland Ave., Suite H, Santa Rosa, CA 95403 | (707) 463-2644 | (707) 463-8956 | liz@icfpp.net.
Kletsel Dehe Band of Wintun Indians | Charlie Wright, Chairperson | PO Box 1630, Williams, CA 95987 | (530) 473-3274 | (530) 473-3301 | cww281@gmail.com.
Koi Nation of Northern California | Darin Beltran, Chairperson | PO Box 3162, Santa Rosa, CA 95402 | (707) 575-5586 | (707) 575-5506 | N/A.
La Jolla Band of Luiseno Indians, California | Social Services Manager | Indian Health Council, Inc., PO Box 406, Pauma Valley, CA 92061 | (760) 749-5518 | (707) 749-5518 | kkolb@indianhealth.com.
La Posta Band of Diegueno Mission Indians of the La Posta Indian Reservation, California | Indian Child Social Services Director | Southern Indian Health Council Inc., 4058 Willow Rd., Alpine, CA 91901 | (619) 445-1188 | (619) 659-3144 | N/A.
Lone Pine Paiute-Shoshone Tribe | Richard Button & Kathy Brancroft, Chairperson & Enrollment Committee Chairperson | PO Box 747, Lone Pine, CA 93545 | (760) 876-1034 | (760) 876-4500 | chair@lppsr.org.
Los Coyotes Band of Cahuilla & Cupeno Indians, California | Social Services Manager | Indian Health Council, Inc., PO Box 406, Pauma Valley, CA 92061 | (760) 749-1410 | (760) 749-5518 | kkolb@indianhealth.com.
Lytton Rancheria of California | Liz Elgin DeRouen, Executive Director | 2525 Cleveland Ave., Suite H, Santa Rosa, CA 95403 | (707) 463-2644 | (707) 463-8956 | liz@icfpp.net.
Manchester Band of Pomo Indians of the Manchester Rancheria, California | Liz Elgin DeRouen, Executive Director | 2525 Cleveland Ave, Suite H, Santa Rosa, CA 95403 | (707) 463-2644 | (707) 463-8956 | liz@icfpp.net.
Manzanita Band of Diegueno Mission Indians of the Manzanita Reservation, California | Angela Elliott-Santos, Chairperson | PO Box 1302, Boulevard, CA 91905 | (619) 766-4930 | (619) 766-4957 | ljbirdsinger@aol.com.
Mechoopda Indian Tribe of Chico Rancheria, California | Dennis Ramirez, Chairman | 125 Mission Ranch, Boulevard, Chico, CA 95926 | (530) 899-8922 | (530) 899-8517 | mit@mechoopda-nsn.gov.
Mesa Grande Band of Diegueno Mission Indians of the Mesa Grande Reservation, California | Social Services Manager | Indian Health Council, Inc., PO Box 406, Pauma Valley, CA 92061 | (760) 749-1410 | (760) 749-5518 | kkolb@indianhealth.com.
Middletown Rancheria of Pomo Indians of California | Marty Comito, ICWA Director | PO Box 1035, Middletown, CA 95461 | (707) 987-8288 | (707) 987-9091 | mcomito@middletownrancheria.com.
Mooretown Rancheria of Maidu Indians of California | Benjamin Clark, Chairman | 1 Alverda Drive, Oroville, CA 95966 | (530) 533-3625 | (530) 533-3680 | lwinner@mooretown.org.
Morongo Band of Mission Indians, California | Legal Department | 12700 Pumarra Road, Banning, CA 92220 | (951) 572-6016 | (951) 572-6108 | legal@morongo-nsn.gov.
Northfork Rancheria of Mono Indians of California | Elaine Bethel Fink & Tawanish Lavell, Chairperson & ICWA Representative | PO Box 929, North Fork, CA 93643 | (559) 877-2461 | (559) 877-2467 | nfrancheria@northforkrancheria-nsn.gov.
Pala Band of Mission Indians | Robert Smith, Chairman | 35008 Pala-Temecula Road—PMB-50, Pala, CA 92059 | (760) 891-3500 | (760) 891-3587 | morozco@palatribe.com.
Paskenta Band of Nomlaki Indians of California | Natasha Magana, Tribal Member at Large | PO Box 709, Corning, CA 96021 | (530) 528-3538 | (530) 528-3553 | office@paskenta.org.
Pauma Band of Luiseno Mission Indians of the Pauma & Yuima Reservation, California | Social Services Manager | Indian Health Council, Inc., PO Box 406, Pauma Valley, CA 92061 | (760) 749-1410 | (760) 749-5518 | kkolb@indianhealth.com.
Pechanga Band of Luiseno Mission Indians of the Pechanga Reservation, California | Mark Macarro, Chairman | PO Box 1477, Temecula, CA 92593 | (951) 770-6105 | (951) 695-1778 | cfs@pechanga-nsn.gov.
Picayune Rancheria of Chukchansi Indians of California | Orianna C. Walker, ICWA Coordinator | PO Box 2146, Oakhurst, CA 93644 | (559) 412-5590 | (559) 440-6494 | orianna.walker@chukchansi.net.
Pinoleville Pomo Nation, California | Clayton Freeman, ICWA Coordinator | 500 B Pinoleville Dr., Ukiah, CA 95482 | (707) 463-1454 | (707) 463-6601 | clayton@pinoleville-nsn.gov.
Pit River Tribe, California | Percy Tejada, ICWA Coordinator | 36970 Park Ave., Burney, CA 96013 | (530) 335-5421 | (530) 335-3140 | icwa@pitrivertribe.org.
Potter Valley Tribe, California | Salvador Rosales, Chairman | 2251 South State Street, Ukiah, CA 95482 | (707) 462-1213 | (707) 462-1240 | pottervalleytribe@pottervalleytribe.com.
Quartz Valley Indian Community of the Quartz Valley Reservation of California | Conrad Croy, ICWA Director | 13601 Quartz Valley Rd., Fort Jones, CA 96032 | (530) 468-5907 | (530) 468-5908 | Conrad.Croy@qvir-nsn.gov.
Ramona Band of Cahuilla, California | Joseph Hamilton, Chairman | PO Box 391670, Anza, CA 92539 | (951) 763-4105 | (951) 763-4325 | N/A.
Redding Rancheria, California | Jack Potter, Jr., Chairman | 2000 Redding Rancheria Rd., Redding, CA 96001-5528 | (530) 225-8979 | N/A | hopew@redding-rancheria.com.
Redwood Valley or Little River Band of Pomo Indians of the Redwood Valley Rancheria California | Chris Piekarski, ICWA Coordinator | 3250 Road I “B” Building, Redwood Valley, CA 95470 | (707) 485-0361 | (707) 485-5726 | icwa@rvrpomo.net.
Resighini Rancheria, California | Fawn Murphy, Chairperson | PO Box 529, Klamath, CA 95548 | (707) 482-2431 | (707) 482-3425 | fawn.murphy@resighinirancheria.com.
Rincon Band of Luiseno Mission Indians of the Rincon Reservation, California | Social Services Manager | Indian Health Council, Inc., PO Box 406, Pauma Valley, CA 92061 | (760) 749-1410 | (760) 749-5518 | kkolb@indianhealth.com.
Robinson Rancheria | Marsha Lee, ICWA Coordinator | PO Box 4015, Nice, CA 95464 | (707) 275-0527 | (707) 275-0235 | N/A.
Round Valley Indian Tribes, Round Valley Reservation, California | James Russ, President | 77826 Covelo Rd., Covelo, CA 95428 | (707) 983-6126 | (707) 983-6128 | president@council.rvit.org.
San Manuel Band of Mission Indians, California | Tribal Secretary | 26569 Community Center Dr., Highland, CA 92346 | (909) 864-8933 | (909) 864-0890 | broberson@sanmanual-nsn.gov.
San Pasqual Band of Diegueno Mission Indians of California | Social Services Manager, | Indian Health Council, Inc., PO Box 406, Pauma Valley, CA 92061 | (760) 749-1410 | (760) 749-5518 | kkolb@indianhealth.com.
Santa Rosa Band of Cahuilla Indians, California | Steven Estrada, Chairperson | PO Box 391820, Anza, CA 92539 | (951) 659-2700 | (951) 689-2228 | srtribaloffice@aol.com.
Santa Rosa Indian Community of the Santa Rosa Rancheria, California | Ruben Barrios, Chairman | PO Box 8, Lemoore, CA 93245 | (559) 924-1278 | (559) 925-2931 | N/A.
Santa Ynez Band of Chumash Mission Indians of the Santa Ynez Reservation, California | Caren Romero, ICWA | 90 Via Juana Ln., Santa Ynez, CA 93460 | (805) 688-7997 | (805) 686-9578 | info@sybmi.org.
Scotts Valley Band of Pomo Indians of California | Kathy Russ, ICWA Advocate | 1005 Parallel Dr., Lakeport, CA 95453 | (707) 263-4220 | (707) 263-4345 | N/A.
Sherwood Valley Rancheria of Pomo Indians of California | Melanie Rafanan and Travis Wright, Tribal Chairperson and ICWA Advocate | 190 Sherwood Hill Dr., Willits, CA 95490 | (707) 459-9690 | (707) 459-6936 | mrafanan@sherwoodband.com.
Shingle Springs Band of Miwok Indians, Shingle Springs Rancheria (Verona Tract), California | Regina Cuellar, Chairwoman | PO Box 1340, Shingle Springs, CA 95682 | (530) 698-1400 | (530) 384-8064 | tribalchairperson@ssband.org.
Soboba Band of Luiseno Indians, California | Alicia Golchuk, Director of Soboba Tribal Family Services | Soboba Tribal Family Services Dept., PO Box 487, San Jacinto, CA 92581 | (951) 487-0283 | (951) 487-1738 | agolchuk@soboba-nsn.gov.
Susanville Indian Rancheria, California | Deana M. Bovee, Tribal Chairwoman | 745 Joaquin St., Susanville, CA 96130 | (530) 257-6264 | (530) 257-7986 | dbovee@sir-nsn.gov.
Sycuan Band of the Kumeyaay Nation | Cody Martinez, Chairman | 1 Kwaaypaay Ct., El Cajon, CA 92019 | (619) 445-2613 | (619) 445-1927 | N/A.
Table Mountain Rancheria of California | Leanne Walker-Grant, Chairperson | PO Box 410, Friant, CA 93626 | (559) 822-2587 | (559) 822-2693 | N/A.
Tejon Indian Tribe | Octavio Escobedo, Chairperson | 1731 Hasti Acres, Suite 108, Bakersfield, CA 93309 | (661) 834-8566 | (661) 834-8564 | office@tejontribe.net.
Tolowa Dee-ni' Nation | Dorothy Wait, CFS Director | Community & Family Services, 16299 HWY 101N, Smith River, CA 95567 | (707) 487-9255 | (707) 487-0137 | dwait@tolowa.com.
Torres Martinez Desert Cahuilla Indians, California | Thomas Tortez, Chairman | TMDCI 66-725 Martinez Rd., PO Box 1160, Thermal, CA 92274 | (760) 397-0300 | (760) 397-8300 | thomas.tortez@torresmartinez-nsn.gov.
Tule River Indian Tribe of the Tule River Reservation, California | Neil Peyron, Chairman | 340 North Reservation Road, PO Box 589, Porterville, CA 93258 | (559) 781-4271 | (559) 781-4610 | Neil.Peyron@tulerivertribe-nsn.gov.
Tuolumne Band of Me-Wuk Indians of the Tuolumne Rancheria of California | Kevin Day, Chairman | PO Box 699, Tuolumne, CA 95379 | (209) 928-3475 | (209) 928-1677 | tmtc@mlode.com.
Twenty-Nine Palms Band of Mission Indians of California | Darrel Mike, Spokesman | 46-200 Harrison Place, PO Box 2269, Coachella, CA 92236 | (760) 863-2444 | (760) 863-2449 | N/A.
United Auburn Indian Community of the Auburn Rancheria of California | Gene Whitehouse, Chairman | 10720 Indian Hill Rd., Auburn, CA 95603 | (530) 883-2390 | (530) 833-2380 | jbeck@auburnrancheria.com.
Utu Utu Gwaitu Paiute Tribe of the Benton Paiute Reservation, California | Shane Salque, Chairman | 25669 Hwy 6 PMB 1, Benton, CA 93512 | (760) 933-2321 | (760) 933-2412 | shanesalque@hotmail.com.
Wilton Rancheria | Vanessa Pady, Director | ICWA 9728 Kent St., Elk Grove, CA 95624 | (916) 683-6000 | (916) 683-6015 | vpady@wiltonrancheria-nsn.gov.
Wiyot Tribe, California | Theodore Hernandez, Chairperson | 1000 Wiyot Dr., Loleta, CA 95551 | (707) 733-5055 | (707) 733-5601 | michelle@wiyot.us.
Yocha Dehe Wintun Nation, California | James Kinter, Tribal Council Secretary | PO Box 18, Brooks, CA 95606 | (530) 796-3400 | (530) 796-2143 | djones@yochadehe-nsn.gov.
Yurok Tribe of the Yurok Reservation, California | Stephanie Weldon, Social Services Director | PO Box 1027, Klamath, CA 95548 | (707) 482-1350 | (707) 482-1368 | sweldon@yuroktribe.nsn.us.

9. Rocky Mountain Region

Rocky Mountain Regional Director, 2021 4th Avenue N, Billings, MT 59101; Phone: (406) 247-7943; Fax: (406) 247-7976.

Tribe | ICWA POC | Mailing address | Phone No. | Fax No. | Email address
Assiniboine & Sioux Tribes of the Fort Peck Indian Reservation, MT | Ingrid Firemoon, ICWA Coordinator | PO Box 1027, Poplar, MT 59255 | (406) 768-2308 | (406) 768-5658 | ifiremoon@fortpecktribes.net.
Blackfeet Tribe of the Blackfeet Indian Reservation of MT | Kathy Calf Boss Ribs, ICWA Coordinator | PO Box 588, Browning, MT 59417 | (406) 338-5171 | (406) 338-7726 | kathybossribs@yahoo.com.
Chippewa Cree Indians of the Rocky Boy's Reservation, MT | Shaneen Raining Bird Hammond, ICWA Case Manager | 96 Clinic Rd., Box Elder, MT 59521 | (406) 262-8093 | (406) 395-5702 | rainingbirds@yahoo.com.
Crow Tribe of Montana | Kerrera Pretty Paint, ICWA CONTACT | PO Box 340, Crow Agency, MT 59022 | (406) 679-0348 | N/A | Kerrera.prettypaint@gmail.com.
Eastern Shoshone Tribe of the Wind River Reservation, Wyoming | Julian Nava, ICWA Attorney | 565 W Chandler Blvd., Suite 212, Chandler, AZ 85225 | (480) 889-8990 | (480) 889-8997 | jnava@rosettelaw.com.
Little Shell Tribe | Gerald Gray | 615 Central Ave. West, Great Falls, MT 59404 | (406) 247-7978 | N/A | N/A.
Fort Belknap Indian Community of the Fort Belknap Reservation of Montana | Myron L. Trottier, ICWA Case Manager | 656 Agency Main St., Harlem, MT 59526 | (406) 353-8328 | (406) 353-4634 | mtrottier@ftbelknap.org.
Northern Arapaho Tribe of the Wind River Reservation, Wyoming | Shelley Mbonu, ICWA Director | PO Box 951, Riverton, WY 82501 | (307) 335-3957 | (307) 463-4182 | shelley.mbonu@northernarapaho.com.
Northern Cheyenne Tribe of the Northern Cheyenne Indian Reservation, Montana | Michelle Little Wolf, ICWA Coordinator | PO Box 128, Lame Deer, MT 59043 | (406) 477-4830 | (406) 477-8333 | michelle.littlewolf@cheyennenation.com.

10. Southern Plains Region

Southern Plains Regional Director, PO Box 368, Anadarko, OK 73005; Phone: (405) 247-6673 Ext. 217; Fax: (405) 247-5611.

Tribe | ICWA POC | Mailing address | Phone No. | Fax No. | Email address
Absentee-Shawnee Tribe of Indians of Oklahoma | Melissa Hill, ICW Director | 2025 S Gordon Cooper Dr., Shawnee, OK 74801 | (405) 395-4492 | (405) 395-4495 | mhill@astribe.com.
Alabama-Coushatta Tribe of Texas | Melissa Celestine, ICW Director | 571 State Park Road #56, Livingston, TX 77351 | (936) 563-1253 | (936) 563-1254 | celestine.melissa@actribe.org.
Apache Tribe of Oklahoma | Sharon Pena, Apache ICW Worker | PO Box 9, Carnegie, OK 73015 | (580) 654-6340 | N/A | icw@kiowatribe.org.
Caddo Nation of Oklahoma | Joan Williams, ICW Caseworker | PO Box 729, Anadarko, OK 73005 | (405) 247-8624 | (405) 247-3256 | pamela.satepauhoodle@wichitatribe.com.
Cheyenne and Arapaho Tribes | Ephram Kelly, ICW Coordinator | PO Box 27, Concho, OK 73022 | (405) 422-7557 | (405) 422-8249 | rfelter@c-a-tribes.org.
Citizen Potawatomi Nation | Janet Draper, ICW Director | 1601 S Gordon Cooper Dr., Shawnee, OK 74801 | (405) 878-4831 | (405) 878-4659 | jdraper@potawatomi.org.
Comanche Nation | Evelyn Mithlo-Turner, ICW Director | PO Box 908, Lawton, OK 73502 | (580) 280-4751 | (580) 280-4751 | carolm@comanchenation.com.
Delaware Nation, Oklahoma | Cassandra Acuna, ICW Director | PO Box 825, Anadarko, OK 73005 | (405) 247-2448 | (405) 247-5942 | cacuna@delawarenation.com.
Fort Sill Apache Tribe of Oklahoma | ICWA Coordinator | 43187 US Highway 281, Apache, OK 73006 | (580) 522-2298 | (580) 588-3133 | brian.wahnee@fortsillapache-nsn.gov.
Iowa Tribe of Kansas and Nebraska | Native Amercian Family Services, Inc. | 3303 B Thrasher Rd., White Cloud, KS 66094 | (785) 595-3260 | N/A | N/A.
Iowa Tribe of Oklahoma | Tamera Hudgins, ICW Director | Rt. 1 Box 721, Perkins, OK 74059 | (405) 547-2402 | (405) 547-1060 | thudgins@ioesnation.org.
Kaw Nation | Lebrandia Lamley, ICW Director | Drawer 50, Kaw City, OK 74641 | (580) 269-2003 | (580) 269-2113 | llemley@kawnation.com.
Kickapoo Traditional Tribe of Texas | Arianna Perez, ICW Director | 2212 Rosita Valley Rd., Eagle Pass, TX 78852 | (830) 421-6300 | N/A | arianna.perez@ktttribe.org.
Kickapoo Tribe in Kansas | ICW Director | PO Box 271, Horton, KS 66439 | (785) 486-2131 | N/A | N/A.
Kickapoo Tribe of Oklahoma | Nathie Wallace, Indian Child Welfare Director | PO Box 469, McLoud, OK 74851 | (405) 964-5426 | (405) 964-5431 | N/A.
Kiowa Tribe | Davetta Geimausaddle, ICW Director | PO Box 369, Carnegie, OK 73015 | (580) 654-2439 | (580) 654-2363 | ICW@kiowatribe.org.
Otoe-Missouria Tribe of Indians | Andrea Kihega, Social Services Director | 8151 Highway 177, Red Rock, OK 74651 | (580) 723-4466 | (580) 723-1016 | akihega@omtribe.org.
Pawnee Nation of Oklahoma | Amanda Farren, ICWA Director | PO Box 470, Pawnee, OK 74058 | (918) 762-3261 | (918) 762-6449 | afarren@pawneenation.org.
Ponca Tribe of Indians of Oklahoma | Stephanie Ruminer, ICW Director | 20 White Eagle Dr., Ponca City, OK 74601 | (580) 463-0133 | (580) 763-0134 | ptoicw@gmail.com.
Prairie Band of Potawatomi Nation | Julia Alfers, ICW Director | 16281 Q Rd., Mayetta, KS 66509 | (785) 966-8325 | (785) 966.290 | tammysweeney@pbpnation.org.
Sac and Fox Nation | Karen Hamilton, ICW Director | 215 North Harrison, Box 246, Shawnee, OK 74801 | (918) 968-3526 | (405) 395-0858 | karen.hamilton@sacandfoxnation-nsn.gov.
Sac and Fox Nation of Missouri in Kansas and Nebraska | Chasity Davis, ICW Director | 305 N Main St., Reserve, KS 66434 | (785) 742-4708 | (785) 288-1163 | cdavis@sacandfoxcasino.com.
Tonkawa Tribe of Indians of Oklahoma | Christi Gonzalez, ICW Director | PO Box 70, Tonkawa, OK 74653 | (580) 628-7025 | (580) 628-7025 | cgonzalez@tonkwatribe.com.
Wichita and Affiliated Tribes (Wichita, Keechi, Waco & Tawakonie), Oklahoma | Joan Williams, ICW Director | PO Box 729, Anadarko, OK 73005 | (405) 247-8627 | (405) 247-3256 | joan.williams@wichitatribe.com.

11. Southwest Region

Southwest Regional Director, 1001 Indian School Road NW, Albuquerque, NM 87104; Phone: (505) 563-3103; Fax: (505) 563-3101.

Tribe | ICWA POC | Mailing address | Phone No. | Fax No. | Email address
Jicarilla Apache Nation | Gina Keeswood, ICWA Specialist | PO Box 120, Dulce, NM 87528 | (575) 759-1712 | (575) 759-3757 | gkeeswood@jbhd.org.
Kewa Pueblo | Virginia Tenorio & Doris Bailon, Family Services Director & Social Services Director | PO Box 129, Santo Domingo, NM 87052 | (505) 465-0630 | (505) 465-2554 | vtenorio@kewa-nsn.us.
Mescalero Apache Tribe of the Mescalero Reservation | Isabelle Guerrero, ICWA Case Manager | PO Box 228, Mescalero, NM 88340 | (575) 464-4334 | (575) 464-9331 | iguerrero@mescaleroapachetribe.com.
Ohkay Owingeh | Rochelle Thompson, ICWA Director | PO Box 1187, Ohkay Owingeh, NM 87566 | (575) 852-6108 | (505) 692-0333 | rochelle.thompson@ohkay.org.
Pueblo of Acoma, New Mexico | Manfred Failla, Child Welfare Specialist | PO Box 354, Acoma, NM 87034 | (505) 552-5162 | (505) 552-0903 | MFailla@poamail.org.
Pueblo of Cochiti, New Mexico | Tanya Devon Torres, ICWA Specialist | PO Box 70, Cochiti Pueblo, NM 87072 | (505) 465-3139 | (505) 465-3173 | tanya_torres@pueblodecochiti.org.
Pueblo of Isleta, New Mexico | Caroline Dailey and Jacqueline Yalch, Social Services Director and ICWA Coordinator | PO Box 1270, Isleta, NM 87022 | (505) 869-2772 | (505) 869-7575 | poi05001@isletapueblo.com.
Pueblo of Jemez, New Mexico | Annette Gachupin, Child Advocate | PO Box 340, Jemez Pueblo, NM 87024 | (575) 834-7117 | (575) 834-7103 | agachupin@jemezpueblo.us.
Pueblo of Laguna, New Mexico | Tracy Zamora, Social Services Specialist | Social Services Department, P.O. Box 194, Laguna, NM 87026 | (505) 552-6513 | (505) 552-6387 | tzamora@pol-nsn.gov.
Pueblo of Nambe, New Mexico | Julie Bird, ICWA Manager | 15A NP 102 West, Santa Fe, NM 87506 | (505) 445-4446 | (505) 455-4449 | ICWA@nambepueblo.org.
Pueblo of Picuris, New Mexico | Deborah Shemayme, ICWA Director | ICWA, PO Box 127, Penasco, NM 87553 | (575) 288-9047 | (575) 587-1003 | icwa@picurispueblo.org.
Pueblo of Pojoaque, New Mexico | Elizabeth Duran, Social Service Director | 58 Cities of Gold Rd., Suite 4, Santa Fe, NM 87506 | (505) 455-0238 | (505) 455-2363 | eduran@pojoaque.org.
Pueblo of San Felipe, New Mexico | Darlene J. Valencia, Family Services Director/ICWA Representative | PO Box 4339, San Felipe Pueblo, NM 87001 | (505) 771-9900 | (505) 771-9978 | dvalencia@sfpueblo.com.
Pueblo of San Ildefonso, New Mexico | Cory D. May, ICWA/Family Advocate | 02 Tunyo Po, Santa Fe, NM 87506 | (505) 455-4164 | (505) 455-7942 | icwamanager@sanipueblo.
Pueblo of Sandia, New Mexico | Charlene Yellowkidney, Behavioral Health Manager | 481 Sandia Loop, Bernalillo, NM 87004 | (505) 771-5131 | (505) 867-7099 | cyellowkidney@sandiapueblo.nsn.us.
Pueblo of Santa Ana, New Mexico | Linda Pena, Social Services Manager | 02 Dove Rd., Santa Ana Pueblo, NM 87004 | (505) 771-6737 | (505) 771-6537 | linda.pena@santaana-nsn.gov.
Pueblo of Santa Clara, New Mexico | Dennis Silva, Director of Social Services | PO Box 580, Espanola, NM 87532 | (505) 753-0419 | (505) 753-0420 | dsilva@santaclarapueblo.org.
Pueblo of Taos, New Mexico | Ezra Bayles, Director | PO Box 1846, Taos, NM 87571 | (575) 758-7824 | (575) 758-3346 | ebayles@taospueblo.com.
Pueblo of Tesuque, New Mexico | Donna Quintana, ICW Coordinator | Box 360, T Route 42, Santa Fe, NM 87506 | (505) 469-0173 | (505) 820-7780 | donna.quintana@pueblooftesuque.org.
Pueblo of Zia, New Mexico | David P. Montoya, Social Services/ ICWA Program | 135 Capital Square Dr., Zia Pueblo, NM 87053 | (505) 401-8142 | (505) 867-3308 | dmontoya@zipuebl.org.
Ramah Navajo Chapter of the Navajo Nation | Loretta Martinez, Social Service Director | Ramah Navajo School Board Inc.—Ramah Navajo Social Service Program, PO Box 250, Pinehill, NM 87357 | (505) 775-3221 | (505) 775-3520 | lorettamrtnz@yahoo.com.
Southern Ute Indian Tribe | Julianne Begay, Social Services Attorney | MS 53, PO Box 737, Ignacio, CO 81137 | (970) 563-0100 | (970) 563-4854 | jbegay@southemute-nsn.gov.
Ute Mountain Ute Tribe | Tywana Billie Lopez, UMU Social Services Director | PO Box 309, Towaoc, CO 81334 | N/A | N/A | tbillie@utemountain.org.
Ysleta del Sur Pueblo | Leah Lopez, LMSW Supervisor | 9314 Juanchido Ln., El Paso, TX 79907 | (915) 860-6170 | (915) 242-6556 | llopez@ydsp-nsn.gov.
Zuni Tribe of the Zuni Reservation | Ron Reid, Social Services Director | PO Box 339, Zuni, NM 87327 | (505) 782-7166 | (505) 782-7221 | ron.reid@ashiwi.org.

12. Western Region

Western Regional Director, 2600 North Central Avenue, Phoenix, AZ 85004; Phone: (602) 379-6600; Fax: (602) 379-4413.

Tribe | ICWA POC | Mailing address | Phone No. | Fax No. | Email address
Ak-Chin Indian Community | Dorissa Garcia, Enrollment Coordinator | 42507 West Peters & Nall Rd., Maricopa, AZ 85138 | (520) 568-1074 | (520) 568-1079 | dgarcia@ak-chin.nsn.us.
Chemehuevi Indian Tribe of the Chemehuevi Reservation, California | Dawn McElwain, ICWA Director | PO Box 1976, Havasu Lake, CA 92363 | (760) 858-5426 | (760) 858-5400 | icwa@cit-nsn.gov.
Cocopah Tribe of Arizona | Rafael D. Morales, Jr., ICWA Worker | 14515 South Veterans Dr., Somerton, AZ 85350 | (928) 627-3729 | (928) 627-3316 | moralesr@cocopah.com.
Colorado River Indian Tribes of the Colorado Indian Reservation, Arizona and California | Rebecca Loudbear, Attorney General | 26600 Mohave Rd., Parker, AZ 85344 | (928) 669-1271 | (928) 669-5675 | rloudbear@critdoj.com.
Confederated Tribes of the Goshute Reservation, Nevada and Utah | Jeanine Hooper, Social Services/ICWA Director | HC61 Box 6104, Ibapah, UT 84034 | (833) 228-6509 | (435) 234-1219 | jeanine.hooper@ctgr.us.
Duckwater Shoshone Tribe of the Duckwater Reservation, Nevada | Debra O'Neil, Social Services Director | PO Box 140087, Duckwater, NV 89314 | (775) 863-0222 | (775) 863-0142 | debbie.oneil@ihs.gov.
Ely Shoshone Tribe of Nevada | Georgia Valdez, Social Services Worker | 250B Heritage Drive, Ely, NV 89301 | (775) 289-4133 | (775) 289-3237 | dorda123@yahoo.com.
Fort McDermitt Paiute and Shoshone Tribes of the Fort McDermitt Indian Reservation, Nevada and Oregon | Alena Dave, ICWA Advocate | PO Box 68, McDermitt, NV 89421 | (775) 532-8263 | (775) 532-8060 | alenadave83@gmail.com.
Fort McDowell Yavapai Nation, Arizona | ICWA Coordinator/CPS Worker, ICWA Coordinator/CPS Worker Wassaja Family Services | PO Box 17779, Fountain Hills, AZ 85269 | (480) 789-7990 | (480) 837-4809 | N/A.
Fort Mojave Indian Tribe of Arizona, California & Nevada | Melvin Lewis. Sr., Social Services Department Director | 500 Merriman Ave., Needles, CA 92363 | (928) 346-1550 | (928) 346-1552 | ssdir@ftmojave.com.
Gila River Indian Community of the Gila River Indian Reservation, Arizona | Antoinette Enos, ICWA Case Manager | PO Box 427, Sacaton, AZ 85147 | (520) 562-3396 | (520) 562-3633 | antoinette.enos@gric.nsn.gov.
Havasupai Tribe of the Havasupai Reservation, Arizona | Rita Uqualla, ICWA Coordinator | PO Box 10, Supai, AZ 86435 | (928) 433-8153 | (928) 433-8119 | ruqualla@yahoo.com.
Hopi Tribe of Arizona | Tanya Monroe, ICWA Coordinator | PO Box 123, Kykotmovi, AZ 86039 | (928) 734-3392 | (928) 734-1158 | T.Monroe@hopi.nsn.us.
Hualapai Indian Tribe of the Hualapai Indian Reservation, Arizona | Idella Keluche, ICWA Worker | PO Box 480, Peach Springs, AZ 86434 | (928) 769-2269/2383/2384/2397 | (928) 769-2659 | ikeluche@hualapai-nsn.gov.
Kaibab Band of Paiute Indians of the Kaibab Indian Reservation, Arizona | Jennie K. Kalauli, Social Services Director | HC 65 Box 2, Fredonia, AZ 86022 | (928) 643-8320 | (888) 822-3777 | jkalauli@kaibabpaiute-nsn.gov.
Las Vegas Tribe of Paiute Indians of the Las Vegas Indian Colony, Nevada | Constance Holdip, Social Services | 1257 Paiute Circle, Las Vegas, NV 89106 | (702) 382-0784 | (702) 384-5272 | choldip@lvpaiute.com.
Lovelock Paiute Tribe of the Lovelock Indian Colony, Nevada | Maribel Morales, ICWA Case Worker | PO Box 878, Lovelock, NV 89419 | (775) 273-7861 | (775) 273-3802 | icwa@lovelocktribe.com.
Moapa Band of Paiute Indians of the Moapa River Indian Reservation, Nevada | Vickie Simmons, Chairman | PO Box 340, Moapa, NV 89025 | (702) 865-2787 | (702) 864-2875 | chair.mbop@moapabandofpaiutes.org.
Paiute Indian Tribe of Utah (Cedar Band of Paiutes, Kanosh Band of Paiutes, Koosharem Band of Paiutes, Indian Peaks Band of Paiutes, and Shivwits Band of Paiutes) | Tracie Lund, Family Services Manager | 440 North Paiute Dr., Cedar City, UT 84721 | (435) 586-1112 | (435) 238-4262 | tlund@fourpointshealth.org.
Paiute-Shoshone Tribe of the Fallon Reservation and Colony, Nevada | Jennifer Pishion, ICWA Representative | 1007 Rio Vista Dr., Fallon, NV 89406 | (775) 423-1215 | (775) 423-8960 | yfsmanager@fpst.org.
Pascua Yaqui Tribe of Arizona | Tamara Walters, Assistant Attorney General | Office of the Attorney General, 7777 S Camino Huivisim—Bldg. C, Tucson, AZ 85757 | (520) 883-5108 | (520) 883-5084 | tamara.walters@pascuayaqui-nsn.gov.
Pyramid Lake Paiute Tribe of the Pyramid Lake Reservation, Nevada | Christine McKamey, Social Services Director | PO Box 256, Nixon, NV 89424 | (775) 574-1047 | (775) 574-1052 | cmckamey@plpt-nsn.us.
Quechan Tribe of the Fort Yuma Indian Reservation, California & Arizona | Cody I. Hartt, ICWA Specialist | PO Box 1899, Yuma, AZ 85366 | (760) 572-0201 | (760) 572-2099 | icwaspecialist@quechantribe.com.
Reno-Sparks Indian Colony, Nevada | Cheryl Douglas, Human Services Director | 405 Golden Ln., Reno, NV 89502 | (775) 329-5071 | (775) 785-8758 | cdouglas@rsic.org.
Salt River Pima-Maricopa Indian Community of the Salt River Reservation, Arizona | Allison Miller, ICWA Manager | SRPMIC Social Services Division, 10005 East Osborn Rd., Scottsdale, AZ 85256 | (480) 362-5645 | (480) 362-5574 | Allison.Miller@srpmic-nsn.gov.
San Carlos Apache Tribe of the San Carlos Reservation, Arizona | Aaron Begay, ICWA Coordinator | PO Box 0, San Carlos, AZ 85550 | (928) 475-2313 | N/A | N/A.
San Juan Southern Paiute Tribe of Arizona | Mary Lou Boone, Enrollment Officer | PO Box 2950, Tuba City, AZ 86045 | (928) 212-9794 | (928) 233-8948 | m.boone@sanjuanpaiute-nsn.gov.
Shoshone-Paiute Tribes of the Duck Valley Reservation, Nevada | Roberta Hanchor, Social Worker | PO Box 219, Owyhee, NV 89832 | (775) 757-2921 | (775) 757-2910 | hanchor.roberta@shopai.org.
Skull Valley Band of Goshute Indians of Utah | Stormey Goddard, ICWA/Social Services Worker | 407 Skull Balley Rd., Skull Valley, UT 84029 | (801) 502-3110 | N/A | stormeyg@svgoshutes.com.
Summit Lake Paiute Tribe of Nevada | Randi DeSoto, Chairwoman | 1001 Rock Blvd., Sparks, NV 89431 | (775) 827-9670 | (775) 827-9678 | randi.desoto@summitlaketribe.org.
Te-Moak Tribe of Western Shoshone Indians of Nevada (Four constituent bands: Battle Mountain Band; Elko Band; South Fork Band and Wells Band) | Tammy Carrera, Social Services Director | 37 Mountain View Dr., Battle Mountain, NV 89820 | (775) 635-2004 | (775) 635-8528 | bmbssd2018@outlook.com.
Te-Moak Tribe of Western Shoshone Indians of Nevada (Four constituent bands: Battle Mountain Band; Elko Band; South Fork Band and Wells Band) | Alicia Kooi, Social Services Director | PO Box 809, Wells, NV 89835 | (775) 752-3045 | (775) 752-2179 | N/A.
Te-Moak Tribe of Western Shoshone Indians of Nevada (Four constituent bands: Battle Mountain Band; Elko Band; South Fork Band and Wells Band) | Debbie Honeyestewa, Interim Social Worker | 21 Lee B-13, Spring Creek, NV 89815 | (775) 744-4273 | (775) 744-4523 | sfadprogram@gmail.com.
Te-Moak Tribe of Western Shoshone Indians of Nevada (Four constituent bands: Battle Mountain Band; Elko Band; South Fork Band and Wells Band) | Marlene Dick, Social Worker | 1745 Silver Eagle Dr., Elko, NV 89801 | (775) 738-9310 | (775) 778-3397 | ssworker@elkoband.org.
Te-Moak Tribe of Western Shoshone Indians of Nevada (Four constituent bands: Battle Mountain Band; Elko Band; South Fork Band and Wells Band) | Heather N. Martinez, Social Services Director | PO Box 809, Wells, NV 89835 | (775) 345-3045 | (775) 752-2179 | wellsbandssicwa@gmail.com.
Tohono O'odham Nation of Arizona | Joshua Rees, Attorney General | PO Box 830, Sells, AZ 85634 | (520) 383-3410 | (520) 383-2689 | joshua.rees@tonation-nsn.gov.
Tonto Apache Tribe of Arizona | Lisa Belonga, ICWA Coordinator/Social Services Director | T.A.R. #30, Payson, AZ 85541 | (928) 474-5000 | (928) 474-9125 | lbelonga@tontoapache.org.
Ute Indian Tribe of the Uintah & Ouray Reservation, Utah | Chet Stevens, Acting Social Services Director | PO Box 925, Fort Duchesne, UT 84026 | (435) 725-2846 | (435) 722-5056 | chets@ute.com.
Walker River Paiute Tribe of the Walker River Reservation, Nevada | Elliott Aguilar, ICWA Specialist | Social Services Department, PO Box 146, 1029 Hospital Rd., Schurz, NV 89427 | (775) 773-2058 | (775) 773-2096 | eaguilar@wrpt.org.
Washoe Tribe of Nevada & California (Carson Colony, Dresslerville Colony, Woodfords Community, Stewart Community, & Washoe Ranches) | Stacy L. Stahl, Social Services Director | 919 US Highway 395, North Gardnerville, NV 89410 | (775) 265-8691 | (775) 265-4593 | Stacy.Stahl@washoetribe.us.
White Mountain Apache Tribe of the Fort Apache Reservation, Arizona | Cora Hinton, ICWA Representative/CPS Supervisor | PO Box 1870, Whiteriver, AZ 85941 | (928) 338-4164 | (928) 338-1469 | chinton@wmat.us.
Winnemucca Indian Colony of Nevada | Judy Rojo, Chairperson | 595 Humboldt St., Reno, NV 89509 | (775) 329-5800 | (775) 329-5819 | admin.wic@winnemuccaindiancolony.org.
Yavapai-Apache Nation of the Camp Verde Indian Reservation, Arizona | Melissa Stevens, ICWA Coordinator | 2400 West Datsi St., Camp Verde, AZ 86322 | (928) 649-7108 | (928) 567-6832 | mstevens@yan-tribe.org.
Yavapai-Prescott Indian Tribe | Tasha Salters, Family Support Supervisor | 530 East Merritt, Prescott, AZ 86301 | (928) 515-7351 | (928) 541-7945 | tsalters@ypit.com.
Yerington Paiute Tribe of the Yerington Colony & Campbell Ranch, Nevada | Nathaniel Landa, Human Services Director | 171 Campbell Ln., Yerington, NV 89447 | (775) 783-0200 | (775) 463-5929 | nlanda@ypt-nsn.gov.
Yomba Shoshone Tribe of the Yomba Reservation, Nevada | Belinda Hooper, Social Services Eligibility Worker | HC 61 Box 6275, Austin, NV 89310 | (775) 964-2463 | (775) 964-1352 | socialservices@yombatribe.org.

Tara Sweeney,
Assistant Secretary—Indian Affairs.

[FR Doc. 2020-09155 Filed 4-29-20; 8:45 am]

BILLING CODE 4337-15-P